DEPARTMENT OF COMMERCE

International Trade Administration, Commerce.

Export Trade Certificate of Review

ACTION: Notice of issuance of an amended Export Trade Certificate of Review, Application No. 88-5A012.

SUMMARY: The Department of Commerce has issued an amended Export Trade Certificate of Review to the National Tooling & Machining Association (“NTMA”) on March 7, 2002. The original Certificate was issued on October 18, 1988 (53 FR 43140, October 25, 1988) and previously amended on December 4, 1989 (54 FR 51914, December 19, 1989); September 2, 1993 (58 FR 47868, September 13, 1993); May 3, 2000 (65 FR 30073, May 10, 2000); and April 5, 2001 (66 FR 21335, April 30, 2001).

FOR FURTHER INFORMATION CONTACT: Vanessa M. Bachman, Acting Director, Office of Export Trading Company Affairs, International Trade Administration, (202) 482-5131 (this is not a toll-free number), or by e-mail at oetca@ita.doc.gov.

SUPPLEMENTARY INFORMATION: Title III of the Export Trading Company Act of 1982 (15 U.S.C. 4001-21) authorizes the Secretary of Commerce to issue Export Trade Certificates of Review. The regulations implementing Title III are found at 15 CFR part 325 (2000).

The Office of Export Trading Company Affairs (“OETCA”) is issuing this notice pursuant to 15 CFR 325.6(b), which requires the Department of Commerce to publish a summary of the Certification in the Federal Register. Under section 305(a) of the Act and 15 CFR 325.11(a), any person aggrieved by the Secretary's determination may, within 30 days of the date of this notice, bring an action in any appropriate district court of the United States to set aside the determination on the ground that the determination is erroneous.

Description of Amended Certificate

NTMA's Export Trade Certificate of Review has been amended so that the attached list will constitute the “Members” of the Certificate within the meaning of § 325.2(1) of the Regulations (15 CFR 325.2(1)).

The effective date of the amended certificate is December 12, 2001. A copy of the amended certificate will be kept in the International Trade Administration's Freedom of Information Records Inspection Facility, Room 4102, U.S. Department of Commerce, 14th Street and Constitution Avenue, NW., Washington, DC 20230.

Dated: March 12, 2002.
Vanessa M. Bachman,
Acting Director, Office of Export Trading Company Affairs.

21st Century Tool & Die, Inc., Waynesboro, TN

3 M MTC, Petaluma, CA

4 Axis Machining, Inc., Denver, CO

A-1 Precision Metal Products, Phoenix, AZ

A & A Industries, Inc., Peabody, MA

A & A Machine Company, Inc., Southampton, PA

A & A Machine Shop, Inc., La Marque, TX

A & B Machine, Van Nuys, CA

A & B Machine Shop, Rockford, IL

A & B Tool & Manufacturing Corp., Toledo, OH

A & D Precision, Fremont, CA

A & E Custom Manufacturing, Technologies, Inc., Kansas City, KS

A & E Machine Shop, Inc., Lone Star, TX

A & G Machine, Inc., Auburn, WA

A & S Tool & Die Company, Inc., Kernersville, NC

A A Precisioneering, Inc., Meadville, PA

A B A Division, A B A-P G T, Inc., Manchester, CT

A B C O Tool & Engineering, Phoenix, AZ

A B Heller, Inc., Milford, MI

A B N Industrial Co., Inc., Buena Park, CA

A B R Enterprises Inc., South Pasadena, CA

A C Machine, Inc., Akron, OH

A E Cole Die & Engraving, Columbus, OH

A E Machine Works, Inc., Houston, TX

A F C Tool Company, Inc., Subsidiary of F C Industries, Dayton, OH

A I M Tool & Die, Grand Haven, MI

A M C Precision, Inc., N. Tonawanda, NY

A M Design, E. Canton, OH

A M Machine Company, Inc., Baltimore, MD

A Mfg., Redlands, CA

A S C Corporation, Owings Mills, MD

A-Line Tool & Die, Inc., Louisville, KY

A-G Tool & Die, Div. of Seilkop Industries, Inc., Miamitown, OH

A-RanD, Inc., Phoenix, AZ

A & B Aerospace, Inc., Azusa, CA

A. C. Grinding & Supply Co. Inc., Levittown, PA

A. C. Cut-Off, Inc., Azusa, CA

A+ Engineering, Ipswich, MA

Abbott Tool, Inc., Toledo, OH

Abbott Machine & Tool, Inc., Toledo, OH

Ability Tool Company, Rockford, IL

Able Wire EDM, Inc., Brea, CA

Abrams Airborne Manufacturing, Inc., Tucson, AZ

Absolute Turning & Machine, Tucson, AZ

Absolute Manufacturing, N. Chelmsford, MA

Absolute Grinding Co., Inc., Mentor, OH

Acadiana Hydraulic Works, Inc., New Iberia, LA

Accu-Roll, Inc., Rochester, NY

Accu Die & Mold Inc., Stevensville, MI

AccuCraft, New Haven, MO

Accudynamics, Inc., Middleboro, MA

Accudyne Aerospace & Defense, Palm Bay, FL

Accura Industries, Inc., Rochester, NY

Accurate Grinding & Mfg. Corp., & Accurate Fishing Products, Los Angeles, CA

Accurate Grinding Corp., Warwick, RI

Accurate Machine Co. Inc., Indianapolis, IN

Accurate Machining, Mukilteo, WA

Accurate Manufacturing Company, Glendale, CA

Accurate Products Co., Tucson, AZ

Accurate Marking Products, Inc., Pittsburgh, PA

Accurite Machine & Mfg. Inc., Louisville, KY

Accutronics, Inc., Littleton, CO

Ace Specialty Company, Inc., Tonawanda, NY

Ace Manufacturing Company, Cincinnati, OH

Ackley Machine Corporation, Moorestown, NJ

Acklin Stamping, Toledo, OH

Acme/Walton Machine & Tool, Inc., Louisville, KY

Acme Metal Works, Gilbert, AZ

ACMT, Inc. dba A C Tool & Machine, Co., Louisville, KY

Acraloc Corporation, Oak Ridge, TN

Acro Industries, Inc., Rochester, NY

Acro Tool & Die Company, Inc., Akron, OH

Actco Tool & Mfg. Co., Meadville, PA

Action Die & Tool Inc., Wyoming, MI

Action Mold & Tool Co., Anaheim, CA

Action Precision Grinding Inc., North Tonawanda, NY

Action SuperAbrasive Products, Brimfield, OH

Action Tool and Manufacturing, Inc., Rockford, IL

Action Machine L.L.C., Phoenix, AZ

Action E.D.M. & Tool Inc., Concord, NC

Acucut, Inc., Southington, CT

Acutec Precision Machining Inc., Saegertown, PA

Ada Machine Company, Inc., Santa Clara, CA

Adams Engineering, Division of Manufacturing Technology, Inc., South Bend, IN

Adaptive Technologies Inc., Springboro, OH

Addison Precision Mfg. Corp., Rochester, NY

Adena Tool Corporation, Dayton, OH

Admill Machine Company, Newington, CT

Adron Tool Corporation, Menomonee Falls, WI

Advance Manufacturing Corp., Cleveland, OH

Advance Manufacturing Technology, Salt Lake City, UT

Advanced Ceramic Technology, Orange, CA

Advanced Composite Products & Technology, Inc. (ACPT Inc.), Huntington Beach, CA

Advanced Cutting Tools, Inc., Clio, MI

Advanced Machine Programming, Morgan Hill, CA

Advanced Machining Corporation, Salisbury, NC

Advanced Measurement Labs, Inc., Sun Valley, CA

Advanced Mold & Tooling Inc., Rochester, NY

Advanced Tooling Specialists Inc., Menasha, WI

Advanced Tooling Systems, Inc., Comstock Park, MI

Advanced Product Design Specialties, Riverside, CA

Advanced Machine Inc., Rochester, NY

Advanced Precision Engineering, Ipswich, MA

Advantage Mold & Design, Meadville, PA

Aero Comm Machining, Wichita, KS

Aero Design & Manufacturing Co., Phoenix, AZ

Aero Engineering & Mfg. Company, Valencia, CA

Aero Gear, Inc., Windsor, CT

Aero Machining Company, Garden Grove, CA

Aero Mechanical Engineering, Inc., Huntington Beach, CA

Aero-Tech Engineering, Inc., Wichita, KS

Aerofab, Inc., Tucson, AZ

Aerostar Aerospace Inc., Phoenix, AZ

Aetna Machine Company, Cochranton, PA

Aggressive Tool & Die, Inc., Buckner, KY

Aggressive Tool & Die, Inc., Coopersville, MI

Agrimson Tool Company, Brooklyn Park, MN

Ahaus Tool & Engineering, Inc., Richmond, IN

Aimco Precision, Inc., Phoenix, AZ

Airmetal Corporation, Jackson, MI

Ajax Tool, Inc., Fort Wayne, IN

Akro Tool Co., Inc., Cincinnati, OH

Akron Steel Fabricators Company, Akron, OH

Akron Tool & Die Company, Inc., Akron, OH

Alart Tool & Die, Inc., Houston, TX

Albert Seisler Machine Corp., Mohnton, PA

Albertson & Hein, Inc., Wichita, KS

Albion Machine & Tool Company, Albion, MI

Alco Manufacturing, Inc., Santa Ana, CA

Alfred Manufacturing Company, Denver, CO

Alger Machine Company, Inc., Rochester, NY

Alignment Engineering Co., Inc., Knoxville, TN

ALKAB Contract Manufacturing, Inc., New Kensington, PA

All Tool Company, Union, NJ

All Tools Company, Oklahoma City, OK

All Tools Texas, Inc., Houston, TX

All Weld Machine, Milpitas, CA

All-Tech Machine & Eng., Inc., San Jose, CA

All-Tech Machining, Inc., Wilmer, AL

All Five Tool Company, Inc., Bristol, CT

Allen Precision Industries, Inc., Asheboro, NC

Allen Precision Machining Co., Angleton, TX

Allen Randall Enterprises, Inc., Akron, OH

Allen Aircraft Products, Inc., Ravenna, OH

Alliance Machine Tool Co., Inc., Louisville, KY

Allied Screw Products, Inc., Mishawaka, IN

Allied Tool & Die Company, LLC, Phoenix, AZ

Allied Tool & Die, Inc., Cleveland, OH

Allied Tool & Machine Company, Kernersville, NC

Allied Tool & Machine, Inc., Saginaw, MI

Allied Tools Of Texas, Houston, TX

Allied Mechanical Products, Ontario, CA

Alloy Metal Products, Hayward, CA

Allstate Tool & Die, Inc., Rochester, NY

Almar Mfg. & Engineering, Inc., Garden Valley, CA

Alpha Mold, LLC, Huber Heights, OH

Alpha Precision Machining Inc., Kent, WA

Alpha Tool & Machine Company, Bellmawr, NJ

Alpha Tooling, Inc., Santa Fe Springs, CA

Alpha Mold West Inc., Broomfield, CO

Alpine Precision, Inc., North Billerica, MA

Alro Specialty Metals, St. Louis, MO

Alt's Tool & Machine, Inc., Santee, CA

Alton Products, Inc., Maumee, OH

Alves Precision Engineered, Products Inc., Watertown, CT

AMA Plastics, Corona, CA

Amatrol, Inc., Jeffersonville, IN

Ambel Precision Mfg. Corp., Bethel, CT

American Mfg. & Machining, Inc., Racine, WI

American Precision Machining, Inc., Phoenix, AZ

American Precision Technologies, Inc., San Fernando, CA

American Tool & Die, Inc., Toledo, OH

American Wire EDM, Inc., Orange, CA

American Metal Masters, Inc., Plantsville, CT

American Machine & Gundrilling, Co., Inc., Maple Grove, MN

Amerimold, Inc., Mogadore, OH

Ameritech Die & Mold, Inc., Mooresville, NC

Amity Mold Company, Tipp City, OH

AMS Production Machining Inc., Plainfield, IN

Anchor Tool & Die Company, Cleveland, OH

Anchor Lamina Inc., Madison Heights, MI

Anders Machine and Engraving, Div. of Ad-Tech Machine & Tool, Rochester, NY

Anderson Tool & Engineering Co., Inc., Anderson, IN

Andrew Tool Company, Inc., Plymouth, MN

Anglo-American Mold, Inc., Louisville, KY

Anmar Precision Components Inc., North Hollywood, CA

Anmark Machine, Tempe, AZ

Anoplate Corporation, Syracuse, NY

Apex Tool & Manufacturing, Inc., Evansville, IN

Apex Precision Technologies, Inc., Camby, IN

Apex Machine Company, Ft. Lauderdale, FL

Apex Machine Tool Company, Farmington, CT

Apollo Products Inc., Willoughby, OH

Apollo E.D.M. Company, Fraser, MI

Apollo Precision, Inc., Plymouth, MN

Applegate EDM, Inc., Dallas, TX

Applied Technology Manufacturing, Corp., Owego, NY

Applied Technology Manufacturing, Inc., Rochester, NY

Applied Engineering, Inc., Yankton, SD

AR Industries Inc., Cincinnati, OH

Aram Precision Tool & Die, Inc., Chatsworth, CA

Arc Drilling Inc., Garfield Heights, OH

Arca Systems, Tacoma, WA

Arco Metals Corporation, Baltimore, MD

Arco Industries, Inc., Dayton, OH

Ardekin Machine Company, Rockford, IL

Area Tool & Manufacturing, Inc., Meadville, PA

Aremco, Inc., Grand Rapids, MN

ARG Manufacturing Corp., Arlington, TX

Argo Tool Corporation, Twinsburg, OH

Aries Tool, Inc., New Berlin, WI

Arkansas Tool & Die, Inc., North Little Roc, AR

Arlington Machine & Tool Company, Fairfield, NJ

Arma Tool & Die Company, Inc., Ridgefield, CT

Armin Tool & Manufacturing Co., Inc., South Elgin, IL

Armstrong-Blum Mfg. Co., Mt. Prospect, IL

Armstrong Machine Works, Inc., Rogersville, TN

Armstrong Mold, Machining Div., East Syracuse, NY

Armstrong Technology, Inc., Sunnyvale, CA

Arnett Tool, Inc., New Paris, OH

Arnette Pattern Company/Midwest, Machining & Fabricating, Granite City, IL

Arrington Supply House, Inc., Tuscaloosa, AL

Arro Tool & Die, Inc., Lakewood, NY

Arrow Grinding, Inc., Tonawanda, NY

Arrow Diversified Tooling, Inc., Ellington, CT

Arrow Sheet Metal Products Co., Denver, CO

Arthur J. Evers Corporation, Riverton, NJ

Artisan Machining, Inc., Bohemia, NY

Artisan Associates, Detroit, MI

Ascension Industries, North Tonawanda, NY

Ash Machine Corporation, Pataskala, OH

Aspen Precision Technologies, Inc., Petaluma, CA

Associated Toolmakers, Inc., Keokuk, IA

Associated Technologies, Brea, CA

Associated Electro-Mechanics, Inc., Springfield, MA

Astley Precision Machine Co., Irwin, PA

Astro Machine Works Inc., Ephrata, PA

Astro Automation, Inc., Irwin, PA

Astrotronics Inc., Mesa, AZ

Atec Engineering, Phoenix, AZ

Athens Industries, Southington, CT

Atkins Tool Company, Riverton, NJ

Atlantic Tool & Die Company, Strongsville, OH

Atlantic Precision Products Inc., Sanford, ME

Atlas Tool, Inc., Roseville, MI

Atlas Machine & Supply, Inc., Louisville, KY

August Machine, Inc., Phoenix, AZ

Austin Machine Company Inc., O'Fallon, MO

Austro Mold Incorporated, Rochester, NY

Autocam Corporation, Kentwood, MI

Automated EDM Incorporated, Ramsey, MN

Automated Cells & Equipment, Inc., Painted Post, NY

Automatic Stamp Products, Inc., Cleveland, OH

Automation Technology, Inc., St. Louis, MO

Automation Tool & Die, Inc., Brunswick, OH

Automation Tool Company, Cookeville, TN

Avanti Engineering & Manufacturing, Inc., Greensburg, PA

Axian Technology, Phoenix, AZ

Axis Mfg. Inc., Tempe, AZ

Ay-Mac Precision, Inc., Yorba Linda, CA

Ay Machine Company, Ephrata, PA

b & b Tool Company, Inc., Rockford, IL

B & A Design Inc., Vernon, CT

B & B Machine & Grinding Service, Denver, CO

B & B Manufacturing Company, Largo, FL

B & B Precision Mfg., Inc., Avon, NY

B & E Tool Company, Inc., Southwick, MA

B & G Quality Machine & Tool, Company, Inc., Baltimore, MD

B & H Fabricators, Inc., Wilmington, CA

B & H Tool Co. Inc., San Marcos, CA

B & H Tool Works, Inc., of Rockcastle Co., Richmond, KY

B & K Engineering, Inc., Mountain View, CA

B & L Tool and Machine Company, Plainville, CT

B & M Machine Corporation of Racine, Racine, WI

B C D Metal Products Inc., Malden, MA

B J Williams Machining Co., Edinboro, PA

B-W Grinding Service, Inc., Houston, TX

B. Radtke & Sons, Inc., Round Lake Park, IL

Bachman Machine Company, Inc., St. Louis, MO

Bachmann Precision Machine, Products Corp., South El Monte, CA

Badge Machine Products, Inc., Canandaigua, NY

Bahrs Die & Stamping Company, Inc., Cincinnati, OH

Baker Hill Industries, Inc., Coral Springs, FL

Banner Machine Inc., Phoenix, AZ

Barberie Mold, Gardena, CA

Bardons & Oliver, Inc., Solon, OH

Barile Precision Grinding Inc., Cleveland, OH

Barnes Aerospace-Apex Mfg., Phoenix, AZ

Basic VI, San Jose, CA

Bass Machining Inc., Baltimore, MD

Bateman Manufacturing Co., Inc., Hayward, CA

Baumann Engineering, Claremont, CA

Bawden Industries, Inc., Romulus, MI

Baxter Machine Products, Inc., Huntingdon, PA

Bayport Machine, Inc., La Porte, TX

Beach Mold & Tool, Inc., New Albany, IN

Beacon Tool Company, Inc., Whittier, CA

Beaver Tool & Machine Company, Inc., Feasterville, PA

Bechler Cams, Inc., Anaheim, CA

Becker, Inc., Kenosha, WI

Beckett Gas, Inc., North Ridgeville, OH

Becksted Machine, Inc., Tucson, AZ

Bedard Machine, Inc., Brea, CA

Bel-Kur, Inc., Temperance, MI

Belco Tool & Mfg. Inc., Meadville, PA

Belgian Screw Machine Products, Inc., Concord, MI

Bell Engineering, Inc., Saginaw, MI

Bellco Precision Manufacturing, Inc., Melissa, TX

Beloit Precision Die Co. Inc., Beloit, WI

Benchmark Engineering, Inc., Chandler, AZ

Benda Tool & Model Works, Hercules, CA

Bendon Gear Machine, Rockland, MA

Bennett Tool & Die Company, Nashville, TN

Bennett Tool & Machine, Fremont, CA

Benning Inc., Blaine, MN

Bent River Machine Inc., Clarkdale, AZ

Berman Tool & Die, Waldorf, MD

Bermar Associates, Inc., Troy, MI

Bertram Tool & Machine Co., Inc., Farrell, PA

Bertrand Products, Inc., South Bend, IN

Best Tool & Manufacturing Co., Inc., Kansas City, MO

Best Way Stamping Inc., La Mirada, CA

Bestway Industries, Inc., Cleveland, OH

Beta Machine Co. Inc., Cleveland, OH

Beta Tool & Mold/Dyna-Tech, Wadsworth, OH

Bilar Tool & Die Corporation, Warren, MI

Billet Industries, Inc., York, PA

Bishop Steering Technology, Inc., Indianapolis, IN

Black Creek, Inc., Gadsden, AL

Blackburn Melton Mfg. Company, Houston, TX

Blackwood Grinding Inc., Hurst, TX

Blandford Machine & Tool Co., Inc., Louisville, KY

Blue Chip Mold, Inc., Rochester, NY

Blue Chip Tool Company, Inc., New Castle, PA

Bluegrass Forging, Tool & Die, Shelbyville, KY

bmc Industries, Bakersfield, CA

BMCO Industries Inc., Cranston, RI

Bob's Tool & Cutter Grinding, Inc., Indianapolis, IN

Boice Industrial Corporation, Ruffsdale, PA

Bolt Industries, LLC., Phoenix, AZ

Boring, Inc., Rockford, IL

Bosma Machine & Tool, Corporation, Tipp City, OH

Boss Tool and Manufacturing, Inc., Fremont, CA

Boston Centerless Inc., Woburn, MA

Bourdelais Grinding Co., Inc., Chatsworth, CA

Bowden Manufacturing Corp., Willoughby, OH

Boyce Machine, Inc., Cuyahoga Falls, OH

Boyle, Inc., Freeport, PA

BPS Industries Inc., Baltimore, MD

Bra-Vor Tool & Die Company, Inc., Meadville, PA

Bradford Machine Company Inc., Brattleboro, VT

Bradhart Products, Inc., Brighton, MI

Bramko Tool & Engineering, Inc., O'Fallon, MO

Bratt Machine Company Inc., No. Andover, MA

Brij Systems, Wichita, KS

Brimar Products, Inc., Fontana, CA

Brinkman Tool & Die, Inc., Dayton, OH

Britt Tool, Inc., Brazil, IN

Brittain Machine, Inc., Wichita, KS

Broadway Companies, Inc., Englewood, OH

Brogdon Tool & Die, Inc., Blue Springs, MO

Brookfield Machine, Inc., West Brookfield, MA

Brooklyn Scraping & Re-Machining, Inc., W. Lafayette, IN

Brooklyn Machine & Mfg. Co., Inc., Cuyahoga Heights, OH

Brown-Covey, Inc., Kansas City, MO

Brownes' Machining, LLC., Sharon, TN

Brownstown Quality Tool & Design, Brownstown, IN

BSB Products Corporation, Buffalo, NY

BT Laser, Inc., Santa Clara, CA

Budney Overhaul & Repair, LTD., Berlin, CT

Buerk Tool & Machine Corporation, Buffalo, NY

Buiter Tool & Die, Inc., Grand Rapids, MI

Bundy Manufacturing, Inc., El Segundo, CA

Burckhardt America, Inc., Greensboro, NC

Burco Precision Products, Inc., Denton, TX

Burger Engineering, Inc., Olathe, KS

Burgess Brothers, Inc., Canton, MA

Burton Industries, Inc., Mentor, OH

C & C Machine Company, Akron, OH

C & C Manufacturing Corporation, Englewood, CO

C & G Machine & Tool Co., Inc., Granby, MA

C & J Industries, Inc., Meadville, PA

C & M Machine Products, Inc., Willoughby, OH

C & R Manufacturing, Inc., Shawnee, KS

C & S Machine & Manufacturing Corporation, Louisville, KY

C A R Engineering & Mfg., Victor, NY

C B Enterprises, Division of Whiteledge, Inc., Manchester, CT

C B Kaupp & Sons, Inc., Maplewood, NJ

C B S Manufacturing Company, Inc., Windsor, CT

C D M Tool & Mfg. Co., Inc., Hartford, WI

C F A Company, Inc., Milford, CT

C J Winter Machine Technologies, Inc., Rochester, NY

C K Tool, Harborcreek, PA

C M Gordon Industries, Inc., Santa Fe Springs, CA

C M Industries, Inc., d/b/a Custom Marine, Inc., Old Saybrook, CT

C N C Machine & Engineering Corporation, Colorado Springs, CO

C N C Precision Machining, Inc., Comstock Park, MI

C T D Machines, Inc., Los Angeles, CA

C V Tool Company, Inc., Southington, CT

C-P Mfg. Corp., Van Nuys, CA

C & C Precision Machining Inc., Mesa, AZ

C-Axis Inc., Hamel, MN

C. G. Tech, Inc., Phoenix, AZ

C.N.C. Tool & Mold, Naples, FL

Caco Pacific Corporation, Covina, CA

Cadco Program & Machine, St. Charles, MO

Cal-Weld, Fremont, CA

Calder Machine Co. (C M C), Florence, SC

California Mold, Fullerton, CA

California Machine Specialties, Chino, CA

Calmax Technology, Inc., Santa Clara, CA

Cambridge Specialty Company, Inc., Kensington, CT

Cambridge Tool & Die Corp., Cambridge, OH

Cameron Machine Shop, Inc., Richardson, TX

Campbell Grinding & Machine, Inc., Lewisville, TX

Campro Manufacturing, Inc., Phoenix, AZ

CamTech Systems, Inc., Alhambra, CA

Canto Tool Corporation, Meadville, PA

Capitol Technologies, Inc., South Bend, IN

Capitol Tool & Die, L. P., Madison, TN

Carbi-Tech, Inc., Vandergrift, PA

Carbide Probes, Inc., Dayton, OH

Carboloy, Inc., Warren, MI

Cardinal Machine Company, Inc., Strongsville, OH

Carius Tool Co., Inc., Cleveland, OH

Carlin Machine Company, Inc., Southborough, MA

Carlson Capital Manufacturing Co., Rockford, IL

Carlson Tool & Manufacturing Corp., Cedarburg, WI

Casale Engineering, Santa Fe Springs, CA

Cascade Mold & Die, Inc., Portland, OR

Cass Screw Machine Products Company, Brooklyn Center, MN

Catalina Tool & Mold, Inc., Tucson, AZ

Cates Machine Shop, Inc., Tyler, TX

Cavalry Precision Machine, Inc., Largo, FL

CB Quality Machining & Engineering Inc., Buffalo, MN

CDL Manufacturing, Inc., Rochester, NY

Cee-San Machine & Fabrication Co., Inc., Houston, TX

Centaur Tool & Die, Inc., Bowling Green, OH

Centennial Technologies, Inc., Saginaw, MI

Center Line Industries, Inc., West Springfield, MA

Center Line Machine Company, Lafayette, CO

Center Line Tool, Freeport, PA

Central Mass. Machine, Inc., Holyoke, MA

Central States Machine Service, Elkhart, IN

Central Tool & Machine Co., Inc., Bridgeport, CT

Central Tools, Inc., Cranston, RI

Century Die Company, Fremont, OH

Century Mold Company, Inc., Rochester, NY

Century Tool & Engr., Inc., Indianapolis, IN

Certified Grinding & Machine, Inc., Rochester, NY

Certified Industries, II, LLC, Phoenix, AZ

CG Manufacturing Company, Willoughby, OH

Chadakoin Interactive, Rochester, NY

Challenger Worldwide, Inc., Phoenix, AZ

Chalmers & Kubeck, Inc., Aston, PA

Chamtek Mfg., Inc., Rochester, NY

Chance Tool & Die Co., Inc., Cincinnati, OH

Chandler Tool & Design Inc., Rockford, IL

Chapman Engineering, Inc., Santa Ana, CA

Charmilles Technologies Corporation, Lincolnshire, IL

Chase Machine & Mfg. Co., Rochester, NY

Chelar Tool & Die, Inc., Belleville, IL

Cherokee Industries, Hampshire, IL

Cherry Valley Tool & Machine Inc., Belvidere, IL

Chicago Mold Engineering Co., Inc., St. Charles, IL

Chicago Grinding & Machine Co., Melrose Park, IL

Chickasha Manufacturing Company, Inc., Chickasha, OK

Chippewa Tool & Manufacturing Co., Woodville, OH

CHIPSCO, Inc., Meadville, PA

Chopper Guys Biker Products, Inc.,Vallejo, CA

Christie Manufacturing, Inc., Gainesville, TX

Christopher Tool & Manufacturing, Solon, OH

Cindex Industries Inc., Ludlow, MA

Circle-K-Industries, K-Form Inc., Sterling, VA

CitiCapital Dealer Finance, Kennesaw, GA

Clarion Tech. Caledonia Tool, Caledonia, MI

Clark-Reliance Corporation, Strongsville, OH

Clark Automation Manufacturing Company, Inc., Pleasanton, CA

Clarke Engineering, Inc., Clarke Gear Co., North Hollywood, CA

Class Machine & Welding, Inc., Akron, OH

Classic Tool, Inc., Macedonia, OH

Classic Tool, Inc., Saegertown, PA

Clay & Bailey Mfg. Co., Kansas City, MO

Cleveland Electric Laboratories Company, Inc., Twinsburg, OH

Clifton Automatic Screw, Machine Products, Inc., Lake City, PA

Cloud Company, San Luis Obispo, CA

CNC Precision Manufacturing, Inc., Farmers Branch, TX

Coast Cutters Company, Inc., South El Monte, CA

Coastal Machine Company, Branford, CT

Cobak Tool & Manufacturing Co., St. Louis, MO

Coffey Associates, Washington, DC

Coil Pro Machinery, Southington, CT

Colbrit Manufacturing Co., Inc., Chatsworth, CA

Collins Machine Works, Inc., Wellford, SC

Collins Machine & Tool Co., Inc., Madison, TN

Collins Instrument Company, Angleton, TX

Colonial Machine Company, Kent, OH

Colonial Machine & Tool Co., Inc., Coventry, RI

Colorado Surface Grinding, Inc., Denver, CO

Colorado Laser Marking, Inc., Colorado Springs, CO

Columbia Products, Inc., Dallastown, PA

Columbia Machine Works, Inc., Columbia, TN

Comac Manufacturing Corporation, Oroville, CA

Comet Tool, Inc., Hopkins, MN

Comfab, Inc., Spartanburg, SC

Command Tooling Systems, Ramsey, MN

Commerce Grinding, Inc., Dallas, TX

Commercial Grinding Services, Inc., Cleveland, OH

Commonwealth Machine Co., Inc., Danville, VA

Competition Tooling, Inc., High Point, NC

Competitive Engineering Inc., Tucson, AZ

Complete Tool & Die, Inc., St. James, MO

Complete Metal Fabrication, Jeffersonville, IN

Composidie, Inc., Apollo, PA

Compu Die, Inc., Wyoming, MI

Compumachine Incorporated, Wilmington, MA

Computech Manufacturing Co., Inc., North Kansas City, MO

Computerized Machining Service, Inc., Englewood, CO

Concept Tool & Die Company, Euclid, OH

Conco Systems, Inc., Verona, PA

Condor Engineering, Inc., Colorado Springs, CO

Connecticut Jig Grinding, Inc., New Britain, CT

Connelly Machine Works, Santa Ana, CA

Connolly Tool & Machine Co., Dallas, TX

Conroy & Knowlton, Inc., Los Angeles, CA

Consolidated Mold & Mfg. Inc., Kent, OH

Conti Tool & Die Company, Akron, OH

Conti Machine Tool Company, Inc., Haverhill, MA

Continental Tool & Manufacturing, Inc., Lenexa, KS

Continental Tool & Machine, Strongsville, OH

Continental Precision, Inc., Phoenix, AZ

Converse Industries, Inc., Kenosha, WI

Cook Technologies, Inc., Green Lane, PA

Cook Machine and Engineering Corporation, Gardena, CA

Coorstek, Livermore, CA

Coosa Machine Company, LLC, Rainbow City, AL

Corbitt Mfg. Company, St. Charles, MO

Cornerstone Screw Machine, Products, Burbank, CA

Cornerstone Design, Franksville, WI

Corning Gilbert, Inc., Glendale, AZ

Corrigan Manufacturing Co., Inc., Rockford, IL

Corrugated Roller & Machine, Inc., Santa Fe Springs, CA

Corry Custom Machine, Corry, PA

Cosar Mold, Inc., Brimfield, OH

Costa Machine, Inc., Akron, OH

Country Machine & Tool, Inc., Tipp City, OH

Covert Manufacturing, Inc., Galion, OH

Cox Tool Company, Inc., Excelsior Spring, MO

Cox Mfg. Co., Inc., San Antonio, TX

CPC Tooling Technologies, Columbus, OH

Craftsman Tool & Mold Company, Aurora, IL

Craig Machinery & Design, Inc., Louisville, KY

Creative Precision, West, Phoenix, AZ

Creative Machining & Mfg., Inc., St. Petersburg, FL

Creb Engineering, Inc., Pascoag, RI

Crenshaw Die & Manufacturing Corp., Irvine, CA

Crest Manufacturing Company, Lincoln, RI

Criterion Tool & Die, Inc., Brook Park, OH

Critical Operations, Inc., Santa Ana, CA

Crosrol, Inc., Greenville, SC

Cross Tool & Manufacturing, Inc., Flagstaff, AZ

Crossland Machinery, Kansas City, MO

CrossRidge Precision, Oak Ridge, TN

Crown Mold & Machine, Streetsboro, OH

Crown Machine, Inc., Rockford, IL

Crucible Materials Corporation, Camillus, NY

Crush Master Grinding Corp., Walnut, CA

Custom Mold & Design, Inc., Plymouth, MN

Custom Tool & Design, Inc., Erie, PA

Custom Tool & Grinding, Inc., Washington, PA

Custom Tool & Model Corp., Frankfort, NY

Custom Machine, Inc., Cleveland, OH

Custom Machine, Inc., Woburn, MA

Custom Gear & Machine, Inc., Rockford, IL

Custom Engineering, Inc., Evansville, IN

Custom Metal Cutting, Inc., Rockwall, TX

Cut-Right Tools Corporation, Willoughby, OH

Cutting Edge Manufacturing, Scottsdale, AZ

Czech Tool, Saegertown, PA

D & B Industries, Inc., Dayton, OH

D & H Manufacturing Company, Fremont, CA

D & J Precision Machining, Inc., Hayward, CA

D & K Industries, Inc., Chatsworth, CA

D & N Precision, Inc., San Jose, CA

D & R Precision Machining, San Jose, CA

D & S Manufacturing Corporation, Southwick, MA

D M E Company, Madison Heights, MI

D M Machine & Tool, Kennerdell, PA

D M Machine Company, Inc., Willoughby, OH

D P I, Inc., Huntingdon Vly, PA

D P Tool & Machine, Inc., Avon, NY

D S A Precision Machining, Inc., Livonia, NY

D S Greene Company, Inc., Wakefield, MA

D-Velco Manufacturing, Phoenix, AZ

D-K Manufacturing Corporation, Fulton, NY

D. F. O'Brien Precision Machining & Tooling, Santa Fe Springs, CA

Daca Machine & Tool, Inc., Dutzow, MO

DaCo Precision Manufacturers, Sandy, UT

Dadeks Machine Works Corporation, Houston, TX

Daily Industrial Tools, Costa Mesa, CA

Dan McEachern Company, Alameda, CA

Dan's Precision Grinding, and Thread Rolling, Sun Valley, CA

Danco Precision, Inc., Phoenixville, PA

Dane Systems, Inc., Stevensville, MI

Danly IEM, Div. of Connell Ltd. Partnership, Cleveland, OH

Data Mold & Tool, Inc., Walbridge, OH

Data Machine, Inc., Adamsburg, PA

Datum Industries, Kentwood, MI

David Engineering & Mfg., Corona, CA

Davis Machine & Manufacturing Company, Arlington, TX

Davken, Inc., Brea, CA

Dayton Reliable Tool & Mfg. Co., Dayton, OH

Dayton Progress Corporation, West Carrollton, OH

De Long Manufacturing Co., Inc., Santa Clara, CA

De-Lux Mold & Machine, Inc., Brady Lake, OH

Dearborn Precision Tubular, Products, Inc., Fryeburg, ME

Deck Brothers, Inc., Buffalo, NY

Deep Holdings, Inc., dba Deephole Machine, Houston, TX

Defiance Innovations Ltd., Company, Earth City, MO

Dekalb Tool & Die, Inc., Tucker, GA

DeKing Screw Products Inc., Burbank, CA

Delco Machine & Gear, No. Long Beach, CA

Delco Corporation, Akron, OH

Dell Tool, Penfield, NY

Delltronics, Inc., Englewood, CO

Delta Machining, Inc., Niles, MI

Delta Tech, Inc., Mentor, OH

Delta Machine & Tool Company, Cleveland, OH

Deltron Engineering, Burbank, CA

Demaich Industries, Inc., Johnston, RI

Dependable Tool & Manufacturing Co., Cleveland, OH

Dependable Machine Company, Inc., Indianapolis, IN

Desert Precision Mfg., Inc.,Tucson, AZ

Designs For Tomorrow, Inc., St. Louis, MO

Detroit Tool & Engineering Co., Lebanon, MO

Deutsch ECD, Hemet, CA

Devtek Engineering & Manufacturing, Colorado Springs, CO

Di-Matrix, Phoenix, AZ

Dial Machine Company, Andalusia, PA

Diamond Lake Tool, Inc., Anoka, MN

Diamond Machine Works, Inc., Seattle, WA

Diamond Tool & Die Co., Inc., Euclid, OH

Diamond Tool & Engineering, Inc., Bertha, MN

Die Cast Die and Mold, Inc., Perrysburg, OH

Die Dimensions, Kentwood, MI

Die Products Company, Minneapolis, MN

Die Quip Corp., Bethel Park, PA

Die Tech Industries, Ltd., Providence, RI

Die-Matic Corporation, Brooklyn Heights, OH

Die-Matic Tool and Die, Inc., Grand Rapids, MI

Die-Mension Corporation, Brunswick, OH

Die-Namic Inc., Taylor, MI

Die Solutions, Inc., Washington, MO

Die-Namic Tool & Mfg., Inc., Rockford, IL

Diemaster Tool & Mold, Inc., Macedonia, OH

Dietooling, Div. of Diemolding, Wampsville, NY

Digital Tool & Die, Inc., Grandville, MI

Dimac Manufacturing Co., Inc., Alexander, AR

Distefano Tool & Mfg. Company, Omaha, NE

Distinctive Machine Corporation, Grand Rapids, MI

Diversified Engraving Stamp, & Machine Company, Akron, OH

Diversified Manufacturing, Incorporated, Lockport, NY

Diversified Tool & Die,Vista, CA

Diversified Tool, Inc., Mukwonago, WI

Diversified Tooling Innovations, Inc., Racine, WI

Diversified Machine Products, LLC., Roebuck, SC

Dixie Tool & Die Co., Inc., Gadsden, AL

Dixon Automatic Tool, Inc., Rockford, IL

DJM Mfg., Sunnyvale, CA

Double D Machine & Tool Company, Fremont, OH

Douglas Machine & Engineering Co., Davenport, IA

Doyle Manufacturing, Inc., Holland, OH

Drabik Tool and Die Inc., Brook Park, OH

Drewco Corporation, Franksville, WI

Drill Masters Inc., Hamden, CT

DT Scheu & Kniss, Louisville, KY

Du-Well Grinding Company, Inc., Milwaukee, WI

Dugan Tool & Die, Inc., Cottage Hills, IL

Dugan Tool & Die Company, Toledo, OH

Dukowitz Machine Inc., Nikiski, AK

Dun-Rite Industries, Inc., Monroe, MI

Dunn & Bybee Tool Company, Inc., Sparta, TN

Duplicate Parts Company, Inc., San Marcos, CA

Dura-Metal Products Corporation, Irwin, PA

Durivage Pattern & Mfg. Co. Inc., Williston, OH

DuWest Tool & Die, Inc., Cleveland, OH

Dwyer Instruments Inc., W E Anderson Division, Grandview, MO

DynaGrind Precision, Inc., New Kensington, PA

Dynamic Tool & Design, Inc., Menomonee Falls, WI

Dynamic Machine & Fabricating, Phoenix, AZ

Dynamic Fabrication, Inc., Santa Ana, CA

Dynamic Engineering, Inc., Minneapolis, MN

Dysinger Incorporated, Dayton, OH

Dytran Instruments, Inc., Chatsworth, CA

E & S Precision Machine, LLC, Modesto, CA

E B & Sons Machine Inc., Aliquippa, PA

E C M Of Florida, Jupiter, FL

E J Codd Co. of Baltimore City &, Codd Fabricators & Boiler Co., Inc., Baltimore, MD

E K L Machine Company, Inc., Andalusia, PA

E R C Concepts Company, Inc., Sunnyvale, CA

E W Johnson Company, Inc., Lewisville, TX

E-M-Solutions, Inc., Fremont, CA

E-Fab, Inc., Santa Clara, CA

E. D. M. Exotics, Inc., Hayward, CA

E. T. Precision Optics Inc., Rochester, NY

Eagle Mold Company, Inc., Carlisle, OH

Eagle Technologies Group, St. Joseph, MI

Eagle Tool & Machine Company, Inc., Springfield, OH

Eagle Precision Tooling Inc., Erie, PA

Eason & Waller, Manufacturing & Grinding, Phoenix, AZ

East Coast Tool & Mfg., Inc., Orchard Park, NY

East Side Machine, Inc., Webster, NY

East Texas Machine Works, Inc., Longview, TX

Eaton Manufacturing, Inc., Fremont, CA

Ebway Corporation, Fort Lauderdale, FL

Eckert Enterprises Ltd., Tempe, AZ

Eckert Machining, Inc., San Jose, CA

Eclipse Mold, Inc., Clinton Township, MI

Eclipse Tool & Die, Inc., Wayland, MI

Edco, Inc., Toledo, OH

Edge-Tech, Inc., Redmond, WA

EDM Supplies, Inc., Downey, CA

Edwardsville Machine & Welding Company, Inc., Edwardsville, IL

Efficient Die & Mold Inc., Cleveland, OH

Egli Machine Company, Inc., Sidney, NY

Ehlert Tool Co., Inc., New Berlin, WI

Ehrhardt Tool & Machine Company, Granite City, IL

Eicom Corporation, Moraine, OH

EISC/CME, Toledo, OH

Ejay's Machine Co., Inc., Fullerton, CA

Elcam Tool & Die, Inc., Wilcox, PA

Electra Form Industries Inc., Vandalia, OH

Electric Enterprise Inc., Stratford, CT

Electro-Mechanical Products, Inc., Denver, CO

Electro-Tech Machining, Long Beach, CA

Electro-Freeto Manufacturing Co., Inc., Wayland, MA

Electro Form Corporation, Binghamton, NY

Electroform Co. Inc., Machesney Park, IL

Elite Tool & Machinery Systems, Inc., O'Fallon, MO

Elizabeth Carbide Die Co., Inc., McKeesport, PA

Elizabeth Carbide of North,Carolina, Inc., Lexington, NC

Elkhart Machine Group, Elkhart, IN

Elliot Tool & Manufacturing Co., St. Louis, MO

Elliott's Precision, Inc., Peoria, AZ

Ellis Tool & Machine, Inc., Tom Bean, TX

Ellis Machine and Fabrication Inc., Buffalo, NY

Ellison Machine Company, Laurens, SC

Elrae Industries, Alden, NY

Emig Machine and Tool, Warwick, PA

Emmert Welding & Manufacturing, Inc., Independence, MO

Empire Manufacturing Corporation, Bridgeport, CT

Empire Die Casting Co., Inc., Macedonia, OH

Engineered Pump Services, Inc., Pasadena, TX

Engineered Machine Tool, Inc., Wichita, KS

Entek Corporation, Norman, OK

Entela, Inc., Grand Rapids, MI

Enterprise Tool & Die, Brooklyn Heights, OH

Ephrata Precision Parts, Inc., Denver, PA

Epicor Software Corporation, Minneapolis, MN

Erca Tool Die & Stamping Company, Richmond Hill, NY

Erickson Tool & Machine Company, Rockford, IL

Erie Specialty Products, Inc., Erie, PA

Erie Shore Machine Co., Inc., Cleveland, OH

Ermco, Inc., Cleveland, OH

EROWA Technology Inc., Arlington Hts., IL

Estee Mold & Die, Inc., Dayton, OH

Esterle Mold & Machine Co., Stow, OH

Estul Tool & Manufacturing Co., Inc., Matthews, NC

Evans Tool & Die, Inc., Conyers, GA

Ever-Ready Tool, Inc., Largo, FL

Ever Fab, Inc., East Aurora, NY

Everett Pattern and Mfg., Inc., Middleton, MA

Ewart-Ohlson Machine Company, Cuyahoga Falls, OH

EWT, Inc., Rockford, IL

Ex-Cel Machine & Tool, Inc., Louisville, KY

Exact Tool & Die, Inc., Brook Park, OH

Exact Cutting Service, Inc., Brecksville, OH

Exacta Tech Inc., Livermore, CA

Exacta Machine, Inc., Wichita, KS

Exacto, Inc. of South Bend, South Bend, IN

Excaliber Precision Machining, Peoria, AZ

Excalibur Precision Machine Co., Inc., Hampstead, NH

Excel Stamping & Manufacturing, Inc., Houston, TX

Excel Manufacturing, Inc., Valencia, CA

Excel Manufacturing Inc., Seymour, IN

Excel Machine Company, Philadelphia, PA

Excel Precision, Inc., Tempe, AZ

Executive Mold Corporation, Huber Heights, OH

Extreme Machine LLC, Phoenix, AZ

Ezell Precision Tool Company, Clearwater, FL

F & F Machine Specialties, Mishawaka, IN

F & G Tool & Die Company, Dayton, OH

F & L Tools Corporation, Corona, CA

F & S Tool, Inc., Erie, PA

F C Machine Tool & Design, Inc., Cuyahoga Falls, OH

F D T Precision Machine Co., Inc., Taunton, MA

F G A Inc., Baton Rouge, LA

F H Peterson Machine Corporation, Stoughton, MA

F K Instrument Co., Inc., Clearwater, FL

F M Machine Company, Akron, OH

F N Smith Corporation, Oregon, IL

F P Pla Tool & Manufacturing Co., Buffalo, NY

F S G Inc., Mishawaka, IN

F T T Manufacturing Inc., Geneseo, NY

F Tinker & Sons Company, Pittsburgh, PA

F W Gartner Thermal Spraying Co., Houston, TX

F-Squared, Inc., Tarentum, PA

F. S. Machining, Inc., Englewood, CO

Fab Lab, Inc., Maryland Heights, MO

Fabricast, Inc., So. El Monte, CA

Fairbanks Machine & Tool, Raytown, MO

Fairview Machine Company, Inc., Topsfield, MA

Fairway Molds, Inc., Walnut, CA

Faith Tool & Manufacturing, Inc., Willoughby, OH

Falcon Precision Machining Co., Inc., West Springfield, MA

Falls City Machine Technology, Louisville, KY

Falls Mold & Die, Inc., Stow, OH

Fame Tool & Manufacturing Co., Cincinnati, OH

FamPEC Technology LLC, Murfreesboro, TN

Fargo Machine Company, Inc., Ashtabula, OH

Farrar Corporation, Norwich, KS

Farzati Manufacturing Corp., Greensburg, PA

Fast Physics Inc., Phoenix, AZ

Faustson Tool Corp., Arvada, CO

Fay & Quartermaine Machining Corp., El Monte, CA

Fay Tool & Die, Inc., Orlando, FL

FCMP, Inc., Buffalo, NY

Feedall, Inc., Willoughby, OH

Feilhauer's Machine Shop Inc., Cincinnati, OH

Feller Tool Co., Inc., Elyria, OH

Fenton Manufacturing, Inc., Ashtabula, OH

Fenwick Machine & Tool, Piedmont, SC

Feral Productions LLC., Newark, CA

Ferriot Inc., Akron, OH

First International Bank, Hartford, CT

Fischer Precision Spindles, Inc., Berlin, CT

Fischer Tool & Die Corporation, Temperance, MI

Fitzwater Engineering Corp., Scituate, RI

Five Star Tool Company, Inc., Rochester, NY

Fleck Machine Company, Inc., Hanover, MD

Foresight Technologies, Tempe, AZ

Forster Tool & Mfg. Inc., Bensenville, IL

Fortner & Gifford, Inc., Prescott, AZ

Fostermation Inc., Meadville, PA

Four Pro Machine, Wichita, KS

Fox Valley Tool & Die, Inc., Kaukauna, WI

Franchino Mold & Engineering, Lansing, MI

Frasal Tool Co., Inc., Newington, CT

Frazier Aviation, Inc., San Fernando, CA

FRB Machine Inc., Emlenton, PA

Fre-Mar Industries, Inc., Brunswick, OH

Fredon Corporation, Mentor, OH

Free-MaDie Company, Kittanning, PA

Freeport Welding & Fabricating, Inc., Freeport, TX

Fries Machine & Tool, Inc., Dayton, OH

Frost & Company, Charlestown, RI

Fulton Industries, Inc., Rochester, IN

Furno Co. Inc., Pomona, CA

Future Tool & Die Company, Inc., Cleveland, OH

Future Tool & Die, Inc., Grandville, MI

Future Fabricators, Phoenix, AZ

Fyco Tool & Die, Inc., Houston, TX

G & G Tool Company, Inc., Sidney, OH

G & K Machine Company, Denver, CO

G & L Tool Corp., Agawam, MA

G B F Enterprises, Inc., Santa Ana, CA

G B Tool Company, Warwick, RI

G H Tool & Mold, Inc., Washington, MO

G M T Corporation, Waverly, IA

G R McCormick, Inc., Burbank, CA

G S G Tool and Manufacturing, Meadville, PA

G S Precision, Inc., Brattleboro, VT

Gadsden Tool, Inc., Gadsden, AL

Gainesville Machine Tools, Inc., Gainesville, TX

Galaxy Industries, Canton, MI

Gales Manufacturing Corporation, Racine, WI

Gambar Products Company, Inc., Warwick, RI

Garcia Associates, Arlington, VA

Gasaway Manufacturing LLC, Beasley, TX

Gatco, Inc., Plymouth, MI

Gauer Mold & Machine Company, Tallmadge, OH

Gaum, Inc., Robbinsville, NJ

Gear Manufacturing, Inc., Anaheim, CA

Gebhardt Machine Works, Inc., Portland, OR

Geiger Manufacturing, Inc., Stockton, CA

Gem City Engineering Company, Dayton, OH

Gene's Gundrilling Inc., Alahambra, CA

General Aluminium Forgings, Colorado Springs, CO

General Die Engraving, Inc., Twinsburg, OH

General Engineering Company, Toledo, OH

General Grinding, Inc., Oakland, CA

General Machine Shop, Inc., Cheverly, MD

General Machine-Diecron, Inc., Griffin, GA

General Tool & Die Company, Inc., Racine, WI

Genesee Manufacturing Company, Inc., Rochester, NY

Genesee Metal Stampings, Inc., West Henrietta, NY

Genesis Plastics & Engineering, LLC, Scottsburg, IN

Genesis Manufacturing, Glendale, AZ

Gentec Manufacturing Inc., San Jose, CA

Geometric Tool & Machine Co., Inc., Piedmont, SC

George Welsch & Son Company, Cleveland, OH

German Machine, Inc., Rochester, NY

Germantown Tool & Machine, Works, Inc., Huntingdon Valle, PA

Gibbs Die Casting Corporation, Henderson, KY

Gibbs Machine Company, Inc., Greensboro, NC

Gilbert Machine & Tool Company, Greene, NY

Gill Tool & Die, Inc., Grand Rapids, MI

Gillette Machine & Tool Co Inc., Rochester, NY

Gillilan Machine Co., Inc., Mt. Juliet, TN

Girard Tool & Die/Jackburn Mfg., Inc., Girard, PA

Gischel Machine Company Inc., Baltimore, MD

Givmar Precision Machining, Mountain View, CA

Glaze Tool & Engineering, Inc., New Haven, IN

Glendale Machine Company, Inc., Solon, OH

Glendo Corporation, Emporia, KS

Glidden Machine & Tool, Inc., North Tonawanda, NY

Global Mfg. & Assembly, Inc., Boyer Machine Tech LLC, Phoenix, AZ

Global Precision, Inc., Davie, FL

Global Shop Solutions, The Woodlands, TX

GMB Machining Company, Livermore, CA

Godwin—SBO, L.P., Houston, TX

Golis Machine, Inc., Montrose, PA

Goodwin-Bradley Pattern Co., Inc., Providence, RI

Graham Tech Inc., Cochranton, PA

Granby Mold, Inc., Walled Lake, MI

Grand Valley Manufacturing Company, Titusville, PA

Graybill's Tool & Die, Inc., Manheim, PA

Great Lakes E.D.M. Inc., Clinton Twp., MI

Great Lakes Metal Treating, Inc., Tonawanda, NY

Great Western Grinding & Eng., Inc., Huntington Beach, CA

Great Lakes Tooling Inc., Cleveland, OH

Grind All Precision Tool Co., Inc., Warren, MI

Grind-All, Inc., Cleveland, OH

GrindC/O Inc., Chelmsford, MA

Grinding Service & Mfg. Co., Bristol, CT

Grindworks Inc., Glendale, AZ

Grosmann Precision, Ballwin, MO

Grover Gundrilling, Inc., Norway, ME

Guill Tool & Engineering Co., Inc., West Warwick, RI

Gulf South Machine/Drilex Corp., Houston, TX

Gurney Precision Machining, Saint Petersburg, FL

Gustav's Tool & Die, Inc., Seguin, TX

H & H Machine Company, Whittier, CA

H & H Machine Shop of Akron, Inc., Akron, OH

H & H Machined Products, Inc., Erie, PA

H & K Machine Service Co. Inc., O'Fallon, MO

H & M Precision Machining, Santa Clara, CA

H & W Machine Company, Broomfield, CO

H & W Tool Company, Inc., Dover, NJ

H B Machine, Inc., Phoenix, AZ

H Brauning Company, Inc., Manassas, VA

H H Mercer, Inc., Mesquite, TX

H R M Machine, Inc., Costa Mesa, CA

H & L Tool Co., Erie, PA

H & M Machining Inc., Machesney Park, IL

Haberman Machine, Inc., St. Paul, MN

Hackett Precision Company, Nashville, TN

Hager Machine & Tool, Inc., Houston, TX

Haig Precision Mfg. Corp., Campbell, CA

Hal-West Technologies, Inc., Kent, WA

Hamblen Gage Corporation, Indianapolis, IN

Hamill Manufacturing Company, Trafford, PA

Hamilton Mold & Machine, Inc., Cleveland, OH

Hamilton Tool Company, Inc., Meadville, PA

Hamlin Steel Products, Inc., Akron, OH

Hammill Manufacturing Company, Toledo, OH

Hammon Precision Technologies, Hayward, CA

Hanks Pattern Company, Montrose, MN

Hanover Machine Company, Ashland, VA

Hans Rudolph, Inc., Kansas City, MO

Hansen Engineering, Harbor City, CA

Hansford Manufacturing Corp., Rochester, NY

Hanson Mold, St. Joseph, MI

Hardy Machine Inc., Hatfield, PA

Hardy-Reed Tool & Die Co., Manitou Beach, MI

Harley & Son, Inc., Yorba Linda, CA

Harris Machine/Finger Lakes Tool, Grinding LLC, Newark, NY

Harrison Enterprise, Inc., dba Accu-Tech, Phoenix, AZ

Haserodt Machine & Tool, Inc., Cleveland, OH

Haskell Machine & Tool, Inc., Homer, NY

Haumiller Engineering Company, Elgin, IL

Hawkeye Precision, Inc., Gilbert, AZ

Hawkins Machine Company, Inc., Coventry, RI

Hawkinson Mold Engineering Co., Alhambra, CA

Hayden Corporation, West Springfield, MA

Heatherington Machine Corp., Orlando, FL

Heinhold Engineering & Machine Co., Inc., Salt Lake City, UT

Heitz Machine & Manufacturing Co., Maryland Heights, MO

Hellebusch Tool & Die, Inc., Washington, MO

Helm Precision, Ltd., Phoenix, AZ

Henman Engineering & Machine, Muncie, IN

Hercules Machine Tool & Die, Warren, MI

Herman Machine, Inc., Tallmadge, OH

Herrick & Cowell Company, Hamden, CT

Hetrick Mfg., Inc., Lower Burrell, PA

Hewitt Machine & Tool, Inc., Hewitt, TX

Heyden Mold & Bench Company, Tallmadge, OH

Hi Tech Manufacturing, LLC, Greensboro, NC

Hi-Tech Machining & Engineering LLC, Tucson, AZ

Hi-Tech Tool Industries, Inc., Troy, MI

Hi-Tech Tool, Inc., Lower Burrell, PA

Hiatt Metal Products Company, Muncie, IN

Hickory Machine Company, Inc., Newark, NY

High Tech Turning Co., Watertown, MA

High-Tech Industries, Holland, MI

Highland Mfg. Inc., Manchester, CT

Hill Engineering, Inc., A Mestek Co., Villa Park, IL

Hillcrest Tool & Die, Inc., Titusville, PA

Hilton Tool & Die Corporation, Rochester, NY

Hittle Machine & Tool Company, Indianapolis, IN

HK Grinding, Phoenix, AZ

Hobson & Motzer, Inc., Durham, CT

Hodon Manufacturing Inc., Willoughby, OH

Hoercher Industries, Inc., East Rochester, NY

Hoffman Custom Tool & Die, Newport Beach, CA

Hoffstetter Tool & Die, Clearwater, FL

Holland Hitch Co., Wylie, TX

Hollis Line Machine Co., Inc., Hollis, NH

Holmes Manufacturing Corporation, Cleveland, OH

Homeyer Tool and Die Co., Marthasville, MO

Hoop's Machine & Welding, Inc., Denton, TX

Hoppe Tool, Inc., Chicopee, MA

Horizon Industries, Columbia, PA

Horizon Tool & Die Corp., Grandville, MI

Houston Cutting Tools, Inc., Houston, TX

Howard Tool Co. Inc., Bangor, ME

Howland Machine Corporation, Colorado Springs, CO

Hubbell Machine Company, Inc., Cleveland, OH

Hulme Products, Ltd., Ashland, OH

Humboldt Instrument Company, San Leandro, CA

Hunt Machine & Manufacturing Co., Tallmadge, OH

Hurricane Machine Company, L.L.C., McKinney, TX

Hyde Special Tools, Saegertown, PA

HydraWedge Corporation, El Segundo, CA

Hydrodyne Division of FPI, Inc., Burbank, CA

Hydromat, Inc., St. Louis, MO

Hygrade Precision Technologies, Inc., Plainville, CT

Hytron Manufacturing Company, Inc., Huntington Beach, CA

I T M, Inc., Shertz, TX

Ideal Grinding Technologies, Inc, Chatsworth, CA

Ideal Tool Co. Inc., Meadville, PA

ILM Tool, Inc., Hayward, CA

Imperial Machine & Tool Company, Wadsworth, OH

Imperial Machining Co., Denver, CO

Imperial Mfg., Santa Fe Springs, CA

Imperial Newbould, Meadville, PA

Imperial Tool & Manufacturing Co., Inc., Lexington, KY

Imperial Die & Manufacturing Co., Strongsville, OH

IMS, Inc., Decatur, AL

Independent Forge Company, Orange, CA

Indiana Tool & Die Company, Die Sets Inc., Indiana, PA

Industrial Grinding, Inc., Dayton, OH

Industrial Machine & Tool Co., Inc., Nashville, TN

Industrial Machine Company, Oklahoma City, OK

Industrial Machining Corporation, Santa Clara, CA

Industrial Maintenance & Electrical Corporation, Lavergne, TN

Industrial Mold + Machine, Twinsburg, OH

Industrial Molds, Inc., Rockford, IL

Industrial Precision Products, Inc., Oswego, NY

Industrial Precision, Inc., Westfield, MA

Industrial Tool & Machine Co., Cuyahoga Falls, OH

Industrial Tool, Die, & Engineering, Inc., Tucson, AZ

Industrial Tooling Technologies, Inc., Muskegon, MI

Industrial Custom Automatic Machine (ICAM), Dayton, OH

Industrial Babbitt Bearing Services, Inc., Gonzales, LA

Ingersoll Contract Manufacturing, Company, Loves Park, IL

Injection Mold & Machine Company, Akron, OH

Inland Tool & Manufacturing Co., Kansas City, KS

Inline Inc., Phoenix, AZ

Innex Industries, Inc., Rochester, NY

Innovative Systems Machine & Tool, Inc., Toledo, OH

Insulate Inc., Auburn, WA

Integrated Machine Systems, Bethel, CT

Integrated Fabrication and Machine, Sharpsville, PA

Integrated Aerospace, Santa Ana, CA

Integrity Mfg. L.L.C., Farmington, CT

International Tooling & Stamping, Inc., Mt. Juliet, TN

International Stamping Inc., Warwick, RI

Intrex Corporation, Louisville, CO

ISO Machining, Inc., Pleasanton, CA

ISYS Manufacturing, Inc., Concord, CA

Iverson Industries, Inc., Wyandotte, MI

J & A Tool Company, Inc., Franklin, PA

J & F Machine Inc., Cypress, CA

J & J Tool Co., Inc., Louisville, KY

J & L Development, Inc., Keithville, LA

J & L EDM, Sunnyvale, CA

J & M Machine, Inc., Fairport Harbor, OH

J & M Unlimited, Ashland City, TN

J & W Manufacturing, Phoenix, AZ

J B Tool Die & Engineering, Inc., Fort Wayne, IN

J B Tool, Inc., Placentia, CA

J C B Precision Tool & Mold, Inc., Commerce City, CO

J D Kauffman Machine Shop, Inc., Christiana, PA

J F Fredericks Tool Company, Inc., Farmington, CT

J I Machine Company, Inc., San Diego, CA

J K Tool & Die, Inc., Apollo, PA

J M Fabrication Corporation, Arlington, TX

J M Mold South, Easley, SC

J M Mold, Inc., Piqua, OH

J M P Industries, Inc., Cleveland, OH

J M S Mold & Engineering Co., Inc., South Bend, IN

J R Custom Metal Products, Inc., Wichita, KS

J Ross Miller & Sons, Inc., Kimberton, PA

J S Die & Mold, Inc., Byron Center, MI

J W Harwood Company, Cleveland, OH

J & J Machine and Engineering, Inc., Commerce, CA

J & G Machine & Tool Co., Inc., Walworth, NY

J. C. Milling Co., Inc., Rockford, IL

J.B.A.T. t/a Cherry Hill Precision, Cherry Hill, NJ

J2 Precision CNC, Inc., Phoenix, AZ

Jackman Machining, Corona, CA

Jackson & Heit Machine Company, Southampton, PA

Jacksonville Machine Inc., Jacksonville, IL

Jaco Tool & Die, Inc., Grand Rapids, MI

Jaco Engineering, Anaheim, CA

Jamison Mfg. Co., North Royalton, OH

Jasco Tools Inc., Cutting Tools Division, Rochester, NY

Jason Tool & Engineering, Inc., Garden Grove, CA

Jatco Machine & Tool Company, Inc., Pittsburgh, PA

JBK Manufacturing & Development,Co., Dayton, OH

Jena Tool Corporation, Dayton, OH

Jenkins Machine, Inc., Bethlehem, PA

Jenn Manufacturing Company, Inc., Warminster, PA

Jennison Corporation, Carnegie, PA

Jergens, Inc., Cleveland, OH

Jergens Tool and Mold, Englewood, OH

Jeryco Industries, Inc., Denton, TX

Jesel, Inc., Lakewood, NJ

Jesse Industries, Inc., Sparks, NV

Jet Products Co., Inc., Phoenix, AZ

Jet Products, Inc., East Bridgewater, MA

Jewett Machine Mfg. Co., Inc., Richmond, VA

Jig Grinding Service Company, Cleveland, OH

Jirgens Modern Tool Corporation, Kalamazoo, MI

JMC Technology Group, Indianapolis, IN

Johnson Tool, Inc., Fairview, PA

Johnson Precision, Inc., Buffalo, NY

Johnson Engineering Company, Indianapolis, IN

Joint Venture Acquisition Co., LLC, Saegertown, PA

Joint Production Technology, Inc., Macomb, MI

Jonco Tool Company, Racine, WI

JRM Machine Company, St. Paul, MN

Juell Machine Company, Inc., Pomona, CA

JWP Manufacturing, Inc., Santa Clara, CA

K & A Tooling, Santa Ana, CA

K & E Mfg. Company, Lee's Summit, MO

K & H Mold & Machine Division, Akron, OH

K & H Precision Products, Inc., Honeoye Falls, NY

K & M Machine-Fabricating, Inc., Cassopolis, MI

K & S Tool & Die, Inc., Meadville, PA

K & S Tool & Mfg. Company, Inc., Jamestown, NC

K L H Industries, Inc., Germantown, WI

K L N Precision Machining & Sheetmetal Corp., Fremont, CA

K M F, Inc., Fairdale, KY

K M S Machine Works, Inc., Taunton, MA

K Mold & Engineering, Inc., Granger, IN

K V, Inc., Huntingdon Valley, PA

K-Form, Inc., Tustin, CA

K. D. K. Inc., Prescott, AZ

K.C.K. Tool & Die Co., Inc., Ferndale, MI

Ka-Wood Gear & Machine Company, Madison Heights, MI

Kahre Brothers, Inc., Evansville, IN

Kalman Machining, Richmond, CA

Kalman Manufacturing, Morgan Hill, CA

Kamashian Engineering Inc., Bellflower, CA

Kanis Machine & Manufacturing, Inc., Tewksbury, MA

Kansas City Screw Products Inc., Kansas City, MO

Karlee, Garland, TX

Karlson Machine Works, Inc., Phoenix, AZ

KARR Unlimited, Inc., Newaygo, MI

Karsten Precision, Phoenix, AZ

Kaskaskia Tool & Machine, Inc., New Athens, IL

Kaufhold Machine Shop, Inc., Lancaster, PA

Kearflex Engineering Company, Warwick, RI

Keck-Schmidt Tool & Die, South El Monte, CA

Kell-Strom Tool Company, Inc., Wethersfield, CT

Kellems & Coe Tool Corporation, Jeffersonville, IN

Keller Technology Corporation, Tonawanda, NY

Kelley Industries, Inc., Eighty Four, PA

Kelltech Precision Machining, Inc., San Jose, CA

Kelly & Thome, Pomona, CA

Kelm Manufacturing Company, Benton Harbor, MI

Kem-Mil-Co, Hayward, CA

Kemco Tool & Machine Company, Fenton, MO

Kenlee Precision Corporation, Baltimore, MD

Kennametal Inc., Latrobe, PA

Kennebec Tool & Die Co., Inc., Augusta, ME

Kennedy & Bowden Machine Company, La Vergne, TN

Kennick Mold & Die, Inc., Cleveland, OH

Kentucky Machine & Tool Company, Louisville, KY

Kern Special Tools Company, Inc., New Britain, CT

Ketcham Diversified Tooling Inc., Cambridge, PA

Kewill ERP, Inc., Edina, MN

Keyes Machine Works, Inc., Gates, NY

Keystone Machine, Inc., Littlestown, PA

Kimberly Gear & Spline, Inc., Phoenix, AZ

King Machine & Engineering Co., Inc., Indianapolis, IN

King-Tek EDM & Precion Machining, Inc., Fullerton, CA

Kipp Group, Ontario, CA

Kirca Precision, Rochester, NY

Klein Steel Service, Inc., Rochester, NY

Klix Tool Corporation, Syracuse, NY

Knight Industries Precision Machining,Inc., Corona, CA

Knowlton Manufacturing Company, Norwood, OH

Knust—S B O, Houston, TX

Kolar Inc., Ithaca, NY

Kordenbrock Tool & Die Company, Cincinnati, OH

Kovacs Machine & Tool Company, Inc., Wallingford, CT

Krause Tool, Inc., A-Z Corp. Div. of Krause Tool, Golden, CO

Kuester Tool & Die Co., Inc., Quincy, IL

Kuhn Tool & Die Co., Meadville, PA

Kurt J. Lesker Company, Clairton, PA

Kurt Manufacturing Company, Minneapolis, MN

L & L Machine, Inc., Ludlow, MA

L & L Tool & Die, Gardena, CA

L & P Machine, Inc., Santa Clara, CA

L A I Southwest, Inc., Phoenix, AZ

L H Carbide Corporation, Fort Wayne, IN

L P I Corporation, Hollywood, FL

L R G Corporation, Jeannette, PA

L R W Cutting Tools, Inc., Phoenix, AZ

L T L Company, Inc., Rockford, IL

L. P. Engineering Co., Carson, CA

Lake Manufacturing Co., Inc., Newburyport, MA

Lakeside Manufacturing Company, Stevensville, MI

Lamb Machine & Tool Company, Indianapolis, IN

Lamina, Inc., Farmington Hills, MI

Lampin Corporation,Uxbridge, MA

Lancaster Machine Shop, Lancaster, TX

Lancaster Metal Products Company, Lancaster, OH

Lancaster Mold, Inc., Lancaster, PA

Land Specialties Manufacturing, Co., Inc., Raytown, MO

Lane Enterprise, Rochester, NY

Lane Punch Corporation, Salisbury, NC

Laneko Engineering Company, Ft. Washington, PA

Laneko Roll Form, Inc., Hatfield, PA

Lange Precision, Inc., Fullerton, CA

Langenau Manufacturing Company, Cleveland, OH

Lansing Tool & Engineering Inc., Lansing, MI

Laron Incorporated, Kingman, AZ

Las Cruces Machine, Manufacturing & Engineering, Las Cruces, NM

Laser Automation, Inc., Chagrin Falls, OH

Laser Beam Technology, Hayward, CA

Laser Fabrication & Machine Co., Inc., Alexandria, AL

Laser Fare, Inc., Smithfield, RI

Laser Tool, Inc., Saegertown, PA

Lathrop Machine, Fremont, CA

Latva Machine, Inc., Newport, NH

Lavelle Machine,Westford, MA

Lavigne Manufacturing, Inc., Cranston, RI

Layke Incorporated, Phoenix, AZ

Layke Tool & Manufacturing, Inc., Meadville, PA

Lead/M, L.L.C., Tempe, AZ

Ledford Engineering Company, Inc., Cedar Rapids, IA

Lee's Grinding, Inc., Cleveland, OH

Leech Industries, Inc., Meadville, PA

Lees Enterprise, Chatsworth, CA

Leese & Co., Inc., Greensburg, PA

Leggett & Platt, Inc., Whittier, CA

Leicester Die & Tool, Inc., Leicester, MA

Lemco-Miller Corporation, Danvers, MA

Lenape Forge, Inc., West Chester, PA

Lenz Technology Inc., Mountain View, CA

Leonardi Manufacturing Co., Inc., Weedsport, NY

Lewis Aviation, Phoenix, AZ

Lewis Machine & Tool Co. Inc., Cuba, MO

Lewis Machine and Tool Company, Milan, IL

Liberty Precision Industries, Ltd., Rochester, NY

Libra Precision Machining, Tecumseh, MI

Light & Medium Fabricating, Inc., Willoughby, OH

Light Machines, Manchester, NH

Ligi Tool & Engineering, Inc., Pompano Beach, FL

Lilly Software Associates, Inc., Hampton, NH

Limmco, Inc., New Albany, IN

Lindberg Heat Treating, Paramount, CA

Linmark Machine Products, Inc., Union, MO

Little Rhody Machine Repair, Inc., Coventry, RI

Littlecrest Machine Shop, Inc., Houston, TX

Lloyd Company, Houston, TX

Lobart Company, Pacoima, CA

Loecy Precision Mfg., Mentor, OH

LOMA Automation Technologies, Inc., Louisville, KY

Lordon Engineering, Gardena, CA

Loud Engineering and Manufacturing, Inc., Ontario, CA

Louis C. Morin Co. Inc., N. Billerica, MA

Loyal Machine Company, Inc., Chelsea, MA

Luick Quality Gage & Tool, Inc., Muncie, IN

Lunar Tool & Mold, Inc., North Royalton, OH

Lunar Tool & Machinery Company, St. Louis, MO

Lunquist Manufacturing Corp., Rockford, IL

Lux Manufacturing, Inc., Sunnyvale, CA

Lynn Welding Co. Inc., Newington, CT

Lyons Tool & Die Company, Meriden, CT

M & D Loe Manufacturing, Inc., Benicia, CA

M & H Engineering Company, Inc., Danvers, MA

M & H Tool & Die, Inc., Gadsden, AL

M & J Grinding & Tool Co., Holland, OH

M & J Valve Services, Inc., Lafayette, LA

M C I Tool & Die, Inc., Saginaw, MI

M C Mold & Machine, Inc., Tallmadge, OH

M D F Tool Corporation, North Royalton, OH

M F Engineering Co. Inc., Bristol, RI

M J K Precision, Woodland Park, CO

M P E Machine Tool Inc., Corry, PA

M P Technologies, Inc., Brecksville, OH

M S Willett, Inc., Cockeysville, MD

M-Tron Manufacturing Company, Inc., San Fernando, CA

M-Ron Corporation, Glendale, AZ

M-C Fabrication, Inc., Olathe, KS

M H S Automation, Round Lake Beach, IL

M. R. Mold & Engineering Corp., Brea, CA

M. J. Machining, Inc., Morgan Hill, CA

Mac Machine and Metal Works, Inc., Connersville, IN

Mac-Mold Base, Inc., Romeo, MI

Machine Incorporated, Stoughton, MA

Machine Specialties, Inc., Greensboro, NC

Machine Tooling, Inc., Cleveland, OH

Machine Works, Inc., Phoenix, AZ

Machinist Cooperative, Gilroy, CA

MacKay Manufacturing, Spokane, WA

Madden Machine Works, Torrance, CA

Maddox Metal Works, Inc., Dallas, TX

Madgett Enterprises Inc., Atascadero, CA

Magdic Precision Tooling, Inc., East McKeesport, PA

Maghielse Tool Corporation, Grand Rapids, MI

Magna Machine & Tool Company, New Castle, IN

Magnum Manufacturing Center, Inc., Colorado Springs, CO

Magnus Mfg. Corp., Phelps, NY

Mahuta Tool Corp., Germantown, WI

Main Tool & Mfg. Co., Inc., Minneapolis, MN

Maine Machine Products, South Paris, ME

Mainline Machine, Inc., Broussard, LA

Majer Precision Engineering, Inc., Tempe, AZ

Major Tool & Machine, Inc., Indianapolis, IN

Makino, Mason, OH

Malmberg Engineering, Inc., Livermore, CA

Manda Machine Company, Inc., Dallas, TX

Manetek, Inc., Broussard, LA

Manheim Special Machine Shop, Manheim, PA

Mann Tool Company, Inc., Pacific, MO

Manufacturing Machine Corp., Pawtucket, RI

Manufacturing Service Corp., West Hartford, CT

ManufacturingQuote, Inc., Smyrna, GA

Marberry Machine, Inc., Houston, TX

Marco Manufacturing Company, Akron, OH

Marcy Machine, Inc., Grandview, MO

Mardon Tool & Die Company, Inc., Rochester, NY

Marini Tool & Die Company, Inc., Racine, WI

Marion Tool and Die, Inc., Terre Haute, IN

Maris Systems Design, Inc., Spencerport, NY

Markham Machine Co. Inc., Akron, OH

Marlin Tool, Inc., Cuyahoga Falls, OH

Marox Corporation, Holyoke, MA

Marquette Tool & Die Company, St. Louis, MO

Marshall Manufacturing Company, Minneapolis, MN

Martinek Manufacturing, Fremont, CA

Martinelli Machine, San Leandro, CA

Masco Machine, Inc., Cleveland, OH

Massachusetts Machine Works Inc., Westwood, MA

Massey Industries, Inc., Houston, TX

Master Cutting & Engineering, Inc., Santa Fe Springs, CA

Master Industries Inc., Piqua, OH

Master Precision Mold Technology, Greenville, MI

Master Precision Tool Corp., Sterling Heights, MI

Master Research & Manufacturing, Inc., Norwalk, CA

Master Tool & Die, Anaheim, CA

Master Tool & Mold, Inc., Grafton, WI

Master Machining & Manufacturing, Spokane, WA

Mastercraft Mold, Inc., Phoenix, AZ

Mastercraft Tool & Machine Co., Inc., Southington, CT

Mastercraft Tool Co., St. Louis, MO

MaTech Machining Technologies, Inc., Hebron, MD

Matrix Tool Company, Fraser, MI

Matthews Gauge, Inc., Santa Ana, CA

Maudlin & Son Manufacturing Co., Inc., Kemah, TX

May Tool & Die, Inc., North Royalton, OH

May Technology & Mfg., Inc., Kansas City, MO

Mayfran International, Cleveland, OH

McAfee Tool & Die, Inc., Uniontown, OH

McCurdy Tool & Machine Inc., Caledonia, IL

MCD Plastics & Manufacturing Inc, Piqua, OH

McFarland Machine and Engineering, Tempe, AZ

McGill Manufacturing Company, Flint, MI

McIvor Manufacturing, Inc., Buffalo, NY

McKee Carbide Tool Division, Olanta, PA

McKenzie Automation Systems, Inc, Rochester, NY

McNeal Enterprises, Inc., San Jose, CA

McNeil Industries, Inc., Willoughby, OH

McNeill Manufacturing Company, Oakland, CA

McSwain Manufacturing Corp., Cincinnati, OH

MCTD, Inc., Michigan City, IN

Meadows Manufacturing Co., Inc., Sunnyvale, CA

Meadville Plating Company, Inc., Meadville, PA

Meadville Tool Grinding, Meadville, PA

Mechanical Drive Components, Inc,Chicopee, MA

Mechanical Manufacturing Corp., Sunrise, FL

Mechanical Metal Finishing Co., Gardena, CA

Mechanized Enterprises, Inc., Anaheim, CA

Medal Industries, Mesa, AZ

Medved Tool & Die Company, Milwaukee, WI

Menegay Machine & Tool Company, Canton, OH

Mercer Machine Company, Inc., Indianapolis, IN

Mercier Tool & Die Company, Canton, OH

Merit Gage, Inc., St. Louis Park, MN

Merritt Tool Company, Inc., Kilgore, TX

Metal Cutting Specialists, Inc., Houston, TX

Metal Form Engineering, Redlands, CA

Metal Processors Inc., Stevensville, MI

Metal-Tek Machining Inc., Phoenix, AZ

Metalcraft, Inc., Tempe, AZ

Metallon, Inc., Thomaston, CT

Metals USA, Flagg Steel Co., Inc., St. Louis, MO

Metalsa—Perfek, Novi, MI

Metco Manufacturing Company, Inc., Warrington, PA

Metco L.L.C., Chatsworth, CA

Metplas, Inc., Natrona Heights, PA

Metric Machining, Monrovia, CA

Metro Manufacturing, Inc., Phoenix, AZ

Miami Tool & Die, Inc., Huntington, IN

Michigan Machining Inc., Mt. Morris, MI

Micro Chrome & Lapping, Inc., San Jose, CA

Micro Facture LLC, Mountville, PA

Micro Instrument Corporation, Rochester, NY

Micro Manufacturing, Caledonia, MI

Micro Matic Tool, Inc., Youngstown, OH

Micro Precision Company, Houston, TX

Micro Punch & Die Company, Rockford, IL

Micro Surface Engineering, Inc., Bal-tec Division, Los Angeles, CA

Micro Tool & Manufacturing, Inc., Meadville, PA

Micro-Tec, Chatsworth, CA

Micro-Tech Machine Inc., Newark, NY

Micro-Tronics, Inc., Tempe, AZ

Microfinish, Clayton, OH

Micropulse West, Inc., Tempe, AZ

Mid-Central Manufacturing, Inc., Wichita, KS

Mid-Continent Engineering, Inc., Minneapolis, MN

Mid-State Manufacturing, Inc., Milldale, CT

Mid-States Forging Die & Tool,Co., Inc., Rockford, IL

Mid-Conn Precision Manufacturing LLC, Bristol, CT

Middle River Machine Services, Inc., Baltimore, MD

Midland Precision Machining, Inc., Tempe, AZ

Midway Mfg. Inc., Elyria, OH

Midwest Tool & Die Corporation, Fort Wayne, IN

Midwest Tool & Engineering Co., Dayton, OH

Mikron Machine, Inc., Cranesville, PA

Mil-Tool & Plastics Inc., Zephyrhills, FL

Milco Wire EDM, Inc., & Milco Waterjet, Huntington Beach, CA

Millat Industries Corp., Dayton, OH

Miller Equipment Corporation, Richmond, VA

Miller Machine & Design, Inc., Charlotte, NC

Miller Mold Company, Saginaw, MI

Millrite Machine Inc., Westfield, MA

Milrose Industries, Cleveland, OH

Miltronics, Inc., Painesville, OH

Milwaukee Precision Corporation, Milwaukee, WI

Milwaukee Punch Corporation, Greendale, WI

Minco Tool & Mold Inc., Dayton, OH

Mission Tool & Manufacturing Co., Inc., Hayward, CA

Mitchell Machine, Inc., Springfield, MA

Mitchum Schaefer, Inc., Indianapolis, IN

Mittler Brothers Machine & Tool, Division-Mittler Corporation, Foristell, MO

MKR Fabricators, Saginaw, MI

Mod Tech Industries, Inc., Shawano, WI

Model Mold & Machine Company, Inc., Noblesville, IN

Model Machine Company, Inc., Baltimore, MD

Modern Machine Company, San Jose, CA

Modern Machine Company, Bay City, MI

Modern Mold, Inc., Grand Rapids, MI

Modern Technologies Corp., Xenia, OH

Modern Industries Inc., Phoenix, AZ

Modular Mining Systems, Inc., Tucson, AZ

Mold Threads Inc., Branford, CT

Moldcraft, Inc., Depew, NY

Moldesign, Inc., Knoxville, TN

Monks Manufacturing Co., Inc., Wilmington, MA

Monroe Tool & Die Co., Rochester, NY

Monsees Tool & Die, Inc., Rochester, NY

Montgomery Machine Company, Houston, TX

Moon Tool & Die Inc., Conneaut Lake, PA

Moore Quality Tooling, Inc., Dayton, OH

Moore Gear Mfg. Co., Inc., Hermann, MO

Moore's Ideal Products, Covina, CA

Morlin Incorporated, Erie, PA

Morris Machine Co., Inc., Indianapolis, IN

Morris Machining, Inc., Oak Leaf, TX

Morton & Company, Inc., Wilmington, MA

Moseys' Production Machinists, Inc., Anaheim, CA

Moss Machine/Module, San Francisco, CA

Mound Laser and Photonics Center, Miamisburg, OH

Mountain States Automation, Inc., Englewood, CO

MPC Industries, Inc., Irvine, CA

MRC Technologies, Buffalo, NY

Mueller Machine & Tool Company, Berkeley, MO

Muller Tool Inc., Cheektowaga, NY

Multi-Tool, Inc., Saegertown, PA

Multi Dimensional Machining Inc., Englewood, CO

Mutual Tool & Die, Inc., Dayton, OH

Mutual Precision, Inc., West Springfield, MA

Myers Precision Grinding Company, Inc., Warrensville Hts, OH

Myers Industries, Akro-Mils Division, Akron, OH

Myles Tool Co., Inc., Sanborn, NY

N C Dynamics, Inc., Long Beach, CA

N D T Industries, Inc., New Deal Tool & Machine, Dayton, OH

N E T & Die Company, Inc., Fulton, NY

Nashville Machine Company, Inc., Nashville, TN

National Carbide Die, McKeesport, PA

National Jet Company, Inc., LaVale, MD

National Tool & Machine Co. Inc., East St. Louis, IL

National Tool & Manufacturing Co., Newburg Park, CA

Nationwide Precision Products, Corp., Rochester, NY

Nel-Mac Tool & Mfg. Inc., McKinney, TX

Nelson Bros. & Strom Co., Inc., Racine, WI

Nelson Engineering, Garden Grove, CA

Nelson Grinding, Inc., Fullerton, CA

Nelson Precision Drilling Co., Glastonbury, CT

Nemes Machine Co., Cuyahoga, OH

Nerjan Development Company, Stamford, CT

Neutronics, Inc., Phoenix, AZ

New Century Fabricators, Inc., New Iberia, LA

New Century Remanufacturing, Inc, Santa Fe Springs, CA

New Cov Fabrication Inc., Rochester, NY

New England Die Co., Inc., Waterbury, CT

New England Precision Grinding, Inc., Holliston, MA

New Standard Corporation, York, PA

Newman Machine Company, Inc., Greensboro, NC

Newtek Manufacturing, Sunnyvale, CA

Newton Tool & Manufacturing Co., Swedesboro, NJ

Niagara Punch & Die Corporation, Buffalo, NY

Nifty Bar, Inc., Penfield, NY

Niles Machine & Tool Works, Inc., Livermore, CA

Nixon Tool Co., Inc., Richmond, IN

Nordon Tool & Mold, Inc., Rochester, NY

Noremac Manufacturing Corp., Westboro, MA

Norman Noble, Inc., Cleveland, OH

Normike Industries, Inc., Plainville, CT

North Canton Tool Company, Inc., Canton, OH

North Central Tool & Die, Inc., Houston, TX

North Coast Tool & Mold Corp., Cleveland, OH

North Easton Machine Co., Inc., North Easton, MA

North Florida Tool Engineering, Inc., Jacksonville, FL

Northeast E D M, Newburyport, MA

Northeast Manufacturing Co., Inc., Stoneham, MA

Northeast Tool & Manufacturing, Co., Indian Trail, NC

Northern Machine Tool Company, Muskegon, MI

Northern Tool & Gage, Inc., North Royalton, OH

Northmont Tool & Gage Inc., Clayton, OH

Northwest Machine Works, Inc., Grand Junction, CO

Northwest Tool & Die Company, Inc., Grand Rapids, MI

Northwest Tool & Die, Inc., Neadville, PA

Northwood Industries, Inc., Perrysburg, OH

Norton Industries Inc., Hayward, CA

Norv's Molds, Inc., Nyssa, OR

Norwood Tool Company, Dayton, OH

Nova Manufacturing Company, North Hollywood, CA

Now-Tech Industries Inc., Lackawanna, NY

NRL & Associates, Inc., Stevensville, MD

Nu-Tech Industries, Grandview, MO

Nu-Tool Industries, Inc., North Royalton, OH

Numeric Machine, Fremont, CA

Numeric Machining Co., Inc., West Springfield, MA

Numerical Concepts, Inc., Terre Haute, IN

Numerical Precision, Inc., Wheeling, IL

Numerical Productions, Inc., Indianapolis, IN

Numet Machine, Stratford, CT

NuTec Tooling Systems, Inc., Meadville, PA

O & S Machine Company, Inc., Latrobe, PA

O-A, Inc., Agawam, MA

O E M Industries, Inc., Dallas, TX

O E M, Inc., Corvallis, OR

O-D Tool & Cutter Inc., Mansfield, MA

O'Keefe Ceramics, Woodland Park, CO

O'Neal Tool & Machine Co., Inc., DeSoto, MO

Obars Machine & Tool Company, Toledo, OH

Oberg Industries Inc., Freeport, PA

Oconee Machine & Tool Company, Inc., Westminster, SC

Oconnor Engineering Laboratories, Costa Mesa, CA

Ohio Gasket & Shim Company, Akron, OH

Ohio Transitional Machine & Tool, Inc., Toledo, OH

Ohlemacher Mold & Die, Strongsville, OH

Oilfield Die Manufacturing Co., Lafayette, LA

Okuma America Corporation, Charlotte, NC

Olson Mfg. & Distribution Inc., Shawnee, KS

Omax Corporation, Kent, WA

Omega One, Inc., Maple Heights, OH

Omega Tool, Inc., Menomonee Falls, WI

Omni Machine Works, Inc., Conyers, GA

Omni Tool, Inc., Winston Salem, NC

Optimized EDM, Santa Clara, CA

Orchard Machine, Inc., Byron Center, MI

Orenda National Aerospace, LLC, Glendale, AZ

ORIX Financial Services Inc., Charlotte, NC

Osborn Products, Inc., Phoenix, AZ

Osley & Whitney, Inc., Westfield, MA

Overland Bolling, Dallas, TX

Overton & Sons Tool & Die Co. Inc., Mooresville, IN

Overton Corporation, Willoughby, OH

P & A Tool & Die, Inc., Rochester, NY

P & N Machine Company, Inc., Houston, TX

P & P Mold & Die, Inc., Tallmadge, OH

P & R Industries, Inc., Rochester, NY

P-K Tool & Manufacturing Company, Chicago, IL

P & C Tool, Meadville, PA

P I A Group, Inc., Cincinnati, OH

P. Tool & Die Company, Inc., N. Chili, NY

Pacific Bearing Company, Rockford, IL

Pacific Precision Machine, Inc., San Carlos, CA

Pacific Tool & Die, Inc., Brunswick, OH

Pahl Tool Services, Cleveland, OH

Palma Tool & Die Company, Inc., Lancaster, NY

Palmer Manufacturing Company, Malden, MA

Palmer Machine Company Inc., Conway, NH

Pankl Aerospace Systems, Cerritos, CA

Pantera, Inc., Torrington, CT

Parallax, Inc., Largo, FL

Paramount Machine & Tool Corp., Fairfield, NJ

Park Hill Machine, Inc., Lancaster, PA

Parker Plastics Corporation, Pittsburgh, PA

Parr-Green Mold and Machine Co., North Canton, OH

Parris Tool & Die Company, Goodlettsville, TN

Parrish Machine, Inc., South Bend, IN

Pasco Tool & Die, Inc., Meadville, PA

Patco Machine & Fab, Inc., Houston, TX

Path Technologies, Inc., Mentor, OH

Patkus Machine Company, Rockford, IL

Patriot Machine, Inc., St. Charles, MO

Patten Tool & Engineering, Inc., Kittery, ME

Paul E. Seymour Tool & Die Co., North East, PA

PDQ Machine, Inc., Machesney Park, IL

PDS Industries, Inc., Irwin, PA

Peerless Precision, Inc., Westfield, MA

Pegasus/Triumph Manufacturing, Inc., East Berlin, CT

Peko Precision Products, Rochester, NY

Pell Engineering & Manufacturing, Inc., Pelham, NH

Penco Precision, Fontana, CA

Pendleton Tool Company, Inc., Erie, PA

Peninsula Screw Machine Products, Inc., Belmont, CA

Penn United Tech, Inc., Saxonburg, PA

Penn State Tool & Die Corp., North Huntingdon, PA

Pennoyer-Dodge Company, Glendale, CA

Pennsylvania Tool & Gages, Inc., Meadville, PA

Pennsylvania Crusher, Cuyahoga Falls, OH

Perfection Tool & Mold Corp., Dayton, OH

Perfecto Tool & Engineering Co., Anderson, IN

Perfekta, Inc., Wichita, KS

Performance Grinding & Manufacturing, Inc., Tempe, AZ

Performance Machining Inc., Irwin, PA

Perlos, Inc., Fort Worth, TX

Perry Tool & Research Inc., Hayward, CA

Petersen Precision Engineering, LLC, Redwood City, CA

Peterson Jig & Fixture, Inc., Rockford, MI

Petro-Chem Industries, Inc., Stafford, TX

Pettey Machine Works, Inc., Trinity, AL

Phil-Coin Machine & Tool Co., Inc., Hudson, MA

Philips Machining Company, Inc., Coopersville, MI

Phoenix Tool & Gage, Inc., Phoenix, AZ

Phoenix Metallics, Phoenix, AZ

Phoenix Grinding, Div. of Cal-Disc Grinding Co., Phoenix, AZ

Piece-Maker Company, Troy, MI

Pierce Products, Inc., Cleveland, OH

Pierson Precision Inc., Campbell, CA

Pinehurst Tool & Die, Conneaut Lake, PA

Pinnacle Precision Co., Glassport, PA

Pinnacle Engineering Co., Inc., Manchester, MI

Pinnacle Manufacturing Co., Inc., Chandler, AZ

Pioneer Tool & Die Company, Akron, OH

Pioneer Tool & Die, Inc., Meadville, PA

Pioneer Tool Die & Machine Co., Inc., Ivyland, PA

Pioneer Precision Grinding, Inc., West Springfield, MA

Pioneer Industries, Seattle, WA

Piper Plastics, Inc., Chandler, AZ

Pitt-Tex, Latrobe, PA

Plainfield Stamping Illinois, Inc., Plainfield, IL

Plano Machine & Instrument Inc., Gainesville, TX

PLASTECH, San Jose, CA

Plastic Mold Technology Inc., Grand Rapids, MI

Plastipak Packaging, Inc., Package Development Plant 67, Medina, OH

Pleasanton Tool and Manufacturing, Inc., Pleasanton, CA

Plesh Industries, Inc., Buffalo, NY

PMR, Inc., Avon, OH

Pol-Tek Industries, Ltd., Cheektowaga, NY

Polynetics, Inc., Fullerton, CA

Polytec Products Corporation, Menlo Park, CA

Ponderosa Industries, Inc., Denver, CO

Popp Machine & Tool, Inc., Louisville, KY

Port City Machine & Tool Company, Muskegon Heights, MI

Portage Knife Company, Inc., Mogadore, OH

Post Products, Inc., Kent, OH

Powers Bros. Machine, Inc., Montebello, CA

Powill Manufacturing & Engineering, Inc., Phoenix, AZ

PQ Enterprise, L.L.C., Grand Rapids, MI

PR Machine Works, Inc., Mansfield, OH

Practical Machine Company, Barberton, OH

Precise Tool Engineering, Tucson, AZ

Precise Tool & Die, Inc., Leechburg, PA

Precise Technologies Inc., Largo, FL

Precise Engineering, Lowell, MI

Precise Products Corporation, Minneapolis, MN

Precision Components Group, Inc., Fremont, CA

Precision Wire EDM Service Inc., Grand Rapids, MI

Precision Wire Cut Corporation, Waterbury, CT

Precision Aircraft Components, Inc., Dayton, OH

Precision Aircraft Machining Co., Inc. dba PAMCO, Sun Valley, CA

Precision Automated Machining, Englewood, CO

Precision Balancing & Analyzing Co., Mentor, OH

Precision Boring Company, Detroit, MI

Precision Die & Stamping Inc., Tempe, AZ

Precision Engineering & Mfg. Co., PEMCO, Haymarket, VA

Precision Engineering, Inc., Uxbridge, MA

Precision Gage & Tool Company, Dayton, OH

Precision Gage, Inc., Tempe, AZ

Precision Grinding & Mfg. Corp., Rochester, NY

Precision Grinding Inc., Phoenix, AZ

Precision Grinding, Inc., Birmingham, AL

Precision Identity Corporation, Campbell, CA

Precision Industries, Inc., Providence, RI

Precision Machine & Engineering, Inc., Phoenix, AZ

Precision Machine & Instrument Co., Houston, TX

Precision Machine & Tool Co., Longview, TX

Precision Machine Company, Lancaster, PA

Precision Machine Rebuilding, Inc., Rogers, MN

Precision Machine Works, Aiken, SC

Precision Manufacturing, Technologies, Inc., Grand Junction, CO

Precision Matters, Inc., San Francisco, CA

Precision Metal Crafters, Ltd., Greensburg, PA

Precision Metal Fabrication, Dayton, OH

Precision Metal Tooling, Inc., San Leandro, CA

Precision Mold & Engineering, Inc., Warren, MI

Precision Mold Base Corporation, Tempe, AZ

Precision Mold Welding, Inc., Little Rock, AR

Precision Mold, Inc., Kent, WA

Precision Piece Parts Inc., Mishawaka, IN

Precision Products Inc., Greenwood, IN

Precision Resource, California Division, Huntington Beach, CA

Precision Resource Tool & Machine, Division, Shelton, CT

Precision Resources, Hawthorne, CA

Precision Specialists, Inc., West Berlin, NJ

Precision Specialties, San Jose, CA

Precision Stamping & Tool, Inc., Irvine, CA

Precision Stamping, Inc., Farmers Branch, TX

Precision Tool & Mold, Inc., Clearwater, FL

Precision Tool Work, Inc., New Iberia, LA

Precon, Inc., Anaheim, CA

Preferred Tool Company, Inc., Seymour, IN

Preferred Tool & Die Co., Inc., Comstock Park, MI

Prescott Aerospace, Inc., Prescott Valley, AZ

Pressco Products, Kent, WA

Prestige Mold Incorporated, Rancho Cucamonga, CA

Price Products, Inc., Escondido, CA

Pride, dba Pride Industries, Brooklym Park, MN

Prima Die Castings, Inc., Clearwater, FL

Prime-Co Tool Inc., East Rochester, NY

Primeway Tool & Engineering Co., Div. of Cleary Developments, Inc., Madison Heights, MI

Prince Machine, Holland, MI

Pro-Mold, Inc., Rochester, NY

Pro-Tech Machine, Inc., Burton, MI

Process Equipment Company, Tipp City, OH

Product Engineering Company, Columbus, IN

Production Tool & Mfg. Co., Portland, OR

Production Saw Works, Inc., North Hollywood, CA

Production Machining & Mfg., Dallas, TX

Producto Machine Company, Bridgeport, CT

Profab Industries L.L.C., Phoenix, AZ

Professional Instruments Co., Inc., Hopkins, MN

Professional Machine & Tool Co., Gallatin, TN

Professional Machine & Tool, Inc., Valley Center, KS

Proficient Machining Co., Inc., Mentor, OH

Profile Grinding, Inc., Cleveland, OH

Proformance Manufacturing, Inc., Corona, CA

Progressive Metallizing & Machine Company, Inc., Akron, OH

Progressive Concepts Machining, Pleasanton, CA

Progressive Machine & Design, LLC, Victor, NY

Progressive Tool & Die, Inc., Meadville, PA

Progressive Tool Company, Waterloo, IA

Progressive Tool & Die, Inc., Gardena, CA

Promax Tool Co., Rancho Cordova, CA

ProMold, Inc., Cuyahoga Falls, OH

Prompt Machine Products, Inc., Chatsworth, CA

Proper Cutter, Inc., Guys Mills, PA

Proper Mold & Engineering, Inc., Center Line, MI

Proteus Manufacturing Co., Inc., Woburn, MA

Proto Machine & Manufacturing, Kent, OH

Proto-Design, Inc., Redmond, WA

Protonics Engineering Corp., Cerritos, CA

Prototype & Plastic Mold Co., Inc., Middletown, CT

Puehler Tool Company, Valley View, OH

Pullbrite, Inc., Fremont, CA

Punch Press Products, Inc., Los Angeles, CA

Punchcraft Company—Subsidiary of MascoTech, Inc., Warren, MI

Qualfab Machining, Lodi, CA

Quality Tool Company, Toledo, OH

Quality Machining, Inc., Waunakee, WI

Quality Precision, Inc., Hayward, CA

Quality Mold & Engineering, QME Inc., Baroda, MI

Quality Mold & Die, Inc., Santa Ana, CA

Quality Centerless Grinding Corp., Middlefield, CT

Quality Machining Technology, Inc., Oakdale, CA

Quality Machine Engineering, Inc., Santa Rosa, CA

Quality Grinding and Machine, Rainbow City, AL

Quality Grinding & Machining, Inc., Bridgeport, CT

Quality Engineering Services, Wallingford, CT

Quick Action Mfg. Co., St. Louis, MO

Quick-Way Stampings, Euless, TX

R W Machine, Inc., Houston, TX

R T R Slotting & Machine Inc., Cuyahoga Falls, OH

R S Precision Industries, Inc., Farmingdale, NY

R O C Carbon Company, Houston, TX

R Davis EDM, Anaheim, CA

R & S Redco, Inc., Rockland, MA

R M I, Van Nuys, CA

R J S Corporation, Akron, OH

R G F Machining Technologies, Canon City, CO

R F Cook Manufacturing Co., Stow, OH

R E F Machine Company, Inc., Middlefield, CT

R & D Machine Shop, Dallas, TX

R & D Specialty/Manco, Phoenix, AZ

R & D Tool & Engineering, Lee's Summit, MO

R & G Precision Tool Inc., Thomaston, CT

R & H Manufacturing Inc., Kingston, PA

R & J Tool, Inc., Brookville, OH

R & M Machine Tool, Freeland, MI

R & M Manufacturing Company, Niles, MI

R & M Mold Manufacturing Co., Inc., Bloomsbury, NJ

R & R Precision Machine, Inc., Wichita, KS

R & S EDM, Inc., W. Springfield, MA

R & S Machining, Inc., Oakville, MO

R D C Machine, Inc., Santa Clara, CA

R. W. Smith Company, Inc., Dallas, TX

R. T. Callahan Machine Products, Inc., Harleysville, PA

Radiant Technologies, Phoenix, AZ

Rainbow Tool & Machine Co., Inc., Gadsden, AL

Raloid Corporation, Reisterstown, MD

Ralph Stockton Valve Products, Inc., Houston, TX

Ram Tool, Inc., Grafton, WI

Rapid-Line Inc., Grand Rapids, MI

Rapidac Machine Corporation, Rochester, NY

Ratnik Industries, Inc., Victor, NY

Rawlings Engineering, Macon, GA

Re-Del Engineering, Campbell, CA

Realco Diversified, Inc., Meadville, PA

Reardon Machine Co., Inc., St. Joseph, MO

Reata Engineering & Machine, Works, Inc., Englewood, CO

Reber Machine & Tool Company, Muncie, IN

RedSpark, Inc., San Francisco, CA

Reed Instrument Company, Houston, TX

Reese Machine Company, Inc., Ashtabula, OH

Reg-Ellen Machine Tool Corp., Rockford, IL

Reichert Stamping Company, Toledo, OH

Reitz Tool & Die Company, Inc., Walbridge, OH

Reitz Tool, Inc., Cochranton, PA

Reko International Sales, Inc., Troy, MI

Reliable EDM, Inc., Houston, TX

Remarc Manufacturing Inc., Hayward, CA

Remmele Engineering, Inc., St. Paul, MN

Remtex, Inc., Longview, TX

Reny & Company Inc., El Monte, CA

REO Hydro-Pierce Inc., Detroit, MI

Repairtech International, Inc., Van Nuys, CA

Repko Tool Inc., Meadville, PA

Republic-Lagun, Carson, CA

Republic Industries, Louisville, KY

Research Tool Inc., East Haven, CT

Reuther Mold & Manufacturing Co., Cuyahoga Falls, OH

Reward Manufacturing, Sun Valley, CA

Reynolds Manufacturing Co., Inc., Rock Island, IL

Rheaco Inc., Grand Prairie, TX

Rhode Island Centerless, Inc., Johnston, RI

Rich Tool & Die Company, Scarborough, ME

Richard Manufacturing Company, Inc., Milford, CT

Richard Tool & Die Corporation, New Hudson, MI

Richard's Grinding, Inc., Cleveland, OH

Richards Machine Tool Company, Inc., Lancaster, NY

Richsal Corporation, Elyria, OH

Rick Sanford Machine Company, San Leandro, CA

Rickman Machine Company, Wichita, KS

Rid-Lom Precision Tool Corp., Rochester, NY

Ridge Machine & Welding Company, Toronto, OH

Riggins Engineering, Inc., Van Nuys, CA

Right Tool & Die, Inc., Toledo, OH

Rima Enterprises, Huntington Beach, CA

Rite-Way Industries Inc., Louisville, KY

Riverview Machine Company, Inc., Holyoke, MA

Riviera Tool Company, Grand Rapids, MI

ROA Tool, Inc., Los Angeles, CA

Robb Machine Tool Co., Wyoming, MI

Robert C. Weisheit Co., Franklin Park, IL

Robert C. Reetz Company, Inc., Pawtucket, RI

Roberts Tool & Die Company, Chillicothe, MO

Roberts Tool Company, Inc., Chatsworth, CA

Robrad Tool & Engineering, Mesa, AZ

Rochester Precision Machine, Inc., Rochester, MN

Rochester Automated Systems, Inc., Rochester, NY

Rochester Gear, Inc., Rochester, NY

Rochester Manufacturing, Wellington, OH

Rockburl Industries Inc., Rochester, NY

Rockford Process Control, Inc., Rockford, IL

Rockford Tool & Manufacturing Co., Rockford, IL

Rockford Toolcraft, Inc., Rockford, IL

Rockhill Machining Industries Inc., Barberton, OH

Rockstedt Tool & Die, Brunswick, OH

Rocon Manufacturing Corporation, Rochester, NY

Rogers Associates Machine Tool, Corporation, Rochester, NY

Rogers Enterprises, Rochester, NY

Roll Kraft, Mentor, OH

Romac Electronics, Inc., Plainview, NY

Romold Inc., Rochester, NY

Ron Grob Company, Loveland, CO

Ronart Industries, Inc., Detroit, MI

Ronlen Industries, Inc., Brunswick, OH

Rons Racing Products, Inc., Tucson, AZ

Royal Wire Products, Inc., N. Royalton, OH

Royalton Manufacturing, Inc., Cleveland, OH

Royster's Machine Shop, LLC, Henderson, KY

Rozal Industries, Inc., Farmingdale, NY

RRR Development Co., Inc., North Canton, OH

RTS Wright Industries, Nashville, TN

Rubbermaid, Inc.—Mold Division, Wooster, OH

Runner Tool & Die Co., Inc., Akron, OH

Ruoff & Sons, Inc., Runnemede, NJ

Ryan Industries Inc., York, PA

S & R Tool Inc., Lakeville, NY

S & B Tool & Die Co., Inc., Lancaster, PA

S & P Machine & Tool Co., L.L.C., Toledo, OH

S & R CNC Machining, Arleta, CA

S C Manufacturing, Akron, OH

S D S Machine, Inc., Livermore, CA

S G S Tool Company, Munroe Falls, OH

S L P Machine, Inc., Ham Lake, MN

S P M/Anaheim, Anaheim, CA

S P S Technologies, Santa Ana, CA

S. C. Machine, Chatsworth, CA

S.M.G. LLC, Cheektowaga, NY

Sabre Machining Center, Inc., Dayton, OH

Saeilo Manufacturing Industries, Blauvelt, NY

Safety-Kleen, Columbia, SC

Sage Machine & Fabricating, Houston, TX

Sagehill Engineering, Inc., Menlo Park, CA

Saginaw Products Corporation, Saginaw, MI

Saint-Gobain Advanced Ceramics, Colorado Springs, CO

Saint-Gobain Semicon Equipment, Inc., San Jose, CA

Salamon Manufacturing Inc., Middletown, CT

Saliba Industries, Inc., Lake Forest, IL

Salomon Smith Barney, Washington, DC

Samax Precision, Inc., Sunnyvale, CA

San Diego Swiss Machining, Inc., Chula Vista, CA

San Jose Laser, San Jose, CA

Sanders Tool & Mould Company, Hendersonville, TN

Sandor Tool & Manufacturing Co., Lawrence, MA

Sandy Bay Machine, Rockport, MA

Santin Engineering, Inc., West Peabody, MA

Satran Technical Enterprises, Mayer, AZ

Sattler Machine Products, Inc., Sharon Center, OH

Savco Manufacturing Co. Inc., Union, MO

Sawing Services Co., Chatsworth, CA

Sawtech, Lawrence, MA

Schaffer Grinding Company, Inc., Montebello, CA

Schill Corp., Toledo, OH

Schlitter Tool, Warren, MI

Schmald Tool & Die Inc., Burton, MI

Schmiede Corporation, Tullahoma, TN

Schneider & Marquard, Inc., Newton, NJ

Schoitz Engineering, Inc., Waterloo, IA

Schuetz Tool & Die, Inc., Hiawatha, KS

Schulze Tool Company, Independence, MO

Schwab Machine, Inc., Sandusky, OH

Schwartz Industries, Inc., Warren, MI

Scientiam Machine Co., Harbor City, CA

Scott County Machine & Tool Co., Inc., Scottsburg, IN

Sebewaing Tool & Engineering Co., Sebewaing, MI

Sebra,Tucson, AZ

Seemcor Inc., Englewood, NJ

Select Tool and Die, Toledo, OH

Select Manufacturing Company, Rainbow City, AL

Select Tool & Eng., Inc., Elkhart, IN

Select Tool & Die—Tool Div., Dayton, OH

Select Industrial Systems Inc., Fairborn, OH

SelfLube, Coopersville, MI

Selzer Tool & Die, Inc., Elyria, OH

Sematool Mold & Die Co., Santa Clara, CA

Serrano Industries Inc., Santa Fe Springs, CA

Service Tool & Die, Inc., Henderson, KY

Service Manufacturing and Engineering, Anaheim, CA

Setters Tools, Inc., Piedmont, SC

Sharon Center Mold & Die, Sharon Center, OH

Shaw Industries, Inc., Franklin, PA

Shear Tool, Inc., Saginaw, MI

Sheets Tool & Manufacturing, Inc., Saegertown, PA

Shelby Engineering Company, Inc., Indianapolis, IN

Sherer Manufacturing Incorporated, Clearwater, FL

Sherlock Machine Company, Clearwater, FL

Sherman Tool & Gage, Erie, PA

Shiloh Industries, Wellington Die Division, Wellington, OH

Shookus Special Tools, Inc., Raymond, NH

Shop Tech Industrial Software Corp., Rocky Hill, CT

Sibley Machine & Foundry Corp., South Bend, IN

Sieger Engineering, Inc., S. San Francisco, CA

Sigma Precision Mfg., Inc., Aston, PA

Signa Molds & Engineering, Sylmar, CA

Signal Machine Company, New Holland, PA

Silicon Valley Mfg., Fremont, CA

Sipco Molding Technologies, Meadville, PA

Sirius Enterprises, Inc., Dallas, TX

Sirois Tool Co. Inc., Berlin, CT

Six Sigma, Louisville, KY

Ski-Way Machine Products Company, Euclid, OH

Skillcraft Machine Tool Company, West Hartford, CT

Skulsky, Inc., Gardena, CA

Skyline Manufacturing Corp., Nashville, TN

Skylon Mold & Machining, Sugar Grove, PA

Skyway Manufacturing Corporation, Phoenix, AZ

Smith-Renaud, Inc., Cheshire, CT

Smith's Machine, Cottondale, AL

Smithfield Manufacturing, Inc., Clarksville, TN

Snyder Systems, Benicia, CA

Solar Tool & Die, Inc., Kansas City, MO

Sonic Machine & Tool, Inc., Tempe, AZ

Sonoma Precision Mfg. Co., Santa Rosa, CA

Sonora Precision Molds, Inc., Mi Wuk Village, CA

South Paw Enterprises LLC, Phoenix, AZ

South Eastern Machining, Inc., Piedmont, SC

South Bend Form Tool Company, South Bend, IN

Southampton Manufacturing, Inc., Feasterville, PA

Southeastern Technology, Inc., Murfreesboro, TN

Southern Mfg. Technologies Inc., Tampa, FL

Southwest Mold, Inc., Tempe, AZ

Southwest Manufacturing, Inc., Wichita, KS

Space City Machine & Tool Co., Houston, TX

Spalding & Day Tool & Die Co., Louisville, KY

Spark Technologies, Inc., Schenley, PA

Spartak Products Inc., Houston, TX

Specialty Machine & Hydraulics, Pleasantville, PA

Speed Precision Machining, Phoenix, AZ

Spenco Machine & Manufacturing, Temecula, CA

Spex Precision Machine Technologies, Rochester, NY

Spike Industries, North Lima, OH

Spin Pro Inc., Sunnyvale, CA

Spiral Grinding Company, Culver City, CA

Springfield Manufacturing, LLC, Clover, SC

Springfield Tool & Die, Inc., Greenville, SC

Sprint Tool & Die Inc., Meadville, PA

Spun Metals, Inc., Phoenix, AZ

STADCO, Los Angeles, CA

Standard Die Supply of Indiana, Inc., Indianapolis, IN

Standard Welding & Steel, Products, Inc., Medina, OH

Standard Machine Inc., Cleveland, OH

Standard Jig Boring Service, Inc., Akron, OH

Stanek Tool Corporation, New Berlin, WI

Stanley Machining & Tool Corp., Carpentersville, IL

Star Tool & Engineering, Inc., Newark, CA

Star Tool & Die, Inc., Elkhart, IN

Star Precision Products, Willoughby, OH

Starn Tool & Manufacturing Co., Meadville, PA

State Industrial Products, Inc., Phoenix, AZ

Stauble Machine & Tool Company, Louisville, KY

Stedcraft Inc., Torrington, CT

Stelted Manufacturing, Inc., Tempe, AZ

Sterling Engineering Corporation, Winsted, CT

Sterling Tool Company, Racine, WI

Stevens Manufacturing Co., Inc., Milford, CT

Stewart Manufacturing Company, Phoenix, AZ

Stieg Grinding Corporation, Rockford, IL

Stillion Industries, Ann Arbor, MI

Stillwater Technologies, Inc., Troy, OH

Stines' Machine, Inc., Vista, CA

STM Manufacturing, Holland, MI

Stonewall Jackson Mold Inc., Annville, KY

Stoney Crest Regrind Service, Inc., Bridgeport, MI

Streamline Tooling Systems, Muskegon, MI

Strobel Machine, Inc., Worthington, PA

Stuart Tool & Die, Falconer, NY

Studwell Engineering, Inc., Sun Valley, CA

Subsea Ventures Inc., Houston, TX

Suburban Manufacturing Company, Eastlake, OH

Summit Precision, Inc., Phoenix, AZ

Summit Machine Company, Scottdale, PA

Sun Tool Company, Houston, TX

Sun EDM Inc., Gilbert, AZ

Sunbelt Plastics, Inc., Frisco, TX

Sunrise Tool & Die, Inc., Henderson, KY

Sunset Tool Inc., Saint Joseph, MI

Super Finishers II, Phoenix, AZ

Superbolt, Inc., Carnegie, PA

Superior Jig, Inc., Anaheim, CA

Superior Mold Company, Ontario, CA

Superior Gear Box Company, Stockton, MO

Superior Die Tool Machine Co., Columbus, OH

Superior Tool, Inc., Willow Street, PA

Superior Tool & Die Company, Inc., Elkhart, IN

Superior Tool & Die Company, Bensalem, PA

Superior Thread Rolling Company Inc, Arleta, CA

Superior Programming LLC, Clearwater, KS

Superior Die Set Corporation, Oak Creek, WI

Supreme Tool & Die Company, Fenton, MO

Surface Manufacturing, Auburn, CA

Swiss Wire E D M, Costa Mesa, CA

Swissco, Inc., Bell Gardens, CA

Swisstech Tooling & Manufacturing, Inc., Scottsdale, AZ

Synergis Technologies Group, Grand Rapids, MI

Synergy Machine, Inc., Kent, WA

Synertron, Inc., Middleboro, MA

Syst-A-Matic Tool & Design, Meadville, PA

Systems 3, Inc., Tempe, AZ

T & S Industrial Machining Corp., Woburn, MA

T-M Manufacturing Corporation, Sunnyvale, CA

T J Tool and Mold, Guys Mills, PA

T M Machine & Tool, Inc., Toledo, OH

T M S Inc., Technical Machining Services, Inc., Lincoln, RI

T R Jones Machine Company, Inc., Crystal Lake, IL

T-K & Associates, Inc., La Porte, IN

T. J. Karg Company, Inc., Akron, OH

TAE Corporation, d/b/a T & E Manufacturing, Kent, WA

Tag Engineering, Inc., Tucson, AZ

Tait Design & Machine Company Inc., Manheim, PA

Talbar, Inc., Meadville, PA

Talcott Machine Products, Inc., Meriden, CT

Talent Tool & Die, Inc., Berea, OH

Tana Corporation, Toledo, OH

Tanner Oil Tools Inc., Houston, TX

Target Precision, Meadville, PA

Taurus Tool & Engineering, Inc., Muncie, IN

TCI Precision Metals, Gardena, CA

TCI Aluminum North, Hayward, CA

Team Tooling and Design, Incorporated, Shawnee, OK

Tech-Machine, Inc., Colorado Springs, CO

Tech-Etch, Inc., Plymouth, MA

Tech Tool, Inc., Detroit, MI

Tech Tool & Mold, Inc., Meadville, PA

Tech Ridge, Inc., South Chelmsford, MA

Tech Mold, Inc., Tempe, AZ

Tech Industries, Inc., Cleveland, OH

Tech Manufacturing Company, Wright City, MO

Techmetals, Inc., Dayton, OH

Techni-Products, Inc., East Longmeadow, MA

Techni-Cast Corporation, South Gate, CA

Technics 2000 Inc., Olathe, KS

Technodic, Inc., Providence, RI

Tecno Troqueles Industries, Laredo, TX

TecoMetrix, LLC, Tempe, AZ

Tedco, Inc., Cranston, RI

Teke Machine Corp., Rochester, NY

Tell Tool, Inc., Westfield, MA

Temco Corporation, Danvers, MA

Tenk Machine & Tool Company, Cleveland, OH

Tennessee Metal Works, Inc., Nashville, TN

Tennessee Tool Corporation, Charlotte, TN

Terrell Manufacturing Inc., Strongsville, OH

Testand Corporation, Pawtucket, RI

Tetco, Inc., Plainville, CT

Teter Tool & Die, Inc., La Porte, IN

Texas Honing, Inc., Pearland, TX

Thaler Machine Company, Dayton, OH

The POM Group, Inc., Auburn Hills, MI

The Ryan Group, Franklin, NJ

The Will-Burt Company, Orrville, OH

The Metalworking Group, Inc., Cincinnati, OH

The United Plastics Group, Inc., Chicopee, MA

The Timken Company, Specialty Tooling & Rebuilding, Canton, OH

The Sullivan Corporation, Hartland, WI

The Foster Group, Rochester, NY

The Sherman Corporation, Inglewood, CA

The Goforth Corp., dba The Machine Shop, Fremont, CA

The Baughman Group, Louisville, KY

The Bechdon Company, Inc., Upper Marlboro, MD

The Budd Company, Shelbyville, KY

The Die Works Inc., Hillsboro, MO

Therm, Inc., Ithaca, NY

Thiel Tool & Engineering Co., Inc., St. Louis, MO

Thomas Machine Works, Inc., Newburyport, MA

Thornhurst Manufacturing, Inc., Zephyrhills, FL

Three-Way Pattern, Inc., Wichita, KS

ThreeCore, Inc., Danvers, MA

Time Machine & Stamping, Inc., Phoenix, AZ

Timon Tool & Die Co., Toledo, OH

Tipco Punch, Inc., Hamilton, OH

Tipp Machine & Tool, Inc., Tipp City, OH

Titan, Inc., Sturtevant, WI

TLT-Babcock, Inc., Medina Ohio Facility, Akron, OH

TMI Industries, Inc., Temperance, MI

TMK Manufacturing Inc., Campbell, CA

TMX Engineering & Manufacturing, Santa Ana, CA

Toledo Blank, Inc., Toledo, OH

Toledo Molding & Die, Toledo, OH

Tolerance Masters, Inc., Circle Pines, MN

Tomak Precision, Lebanon, OH

Tomco Tool & Die, Inc., Belding, MI

TomKen Tool & Engineering, Inc., Muncie, IN

Tool-Matic Company, Inc., City Of Commerce, CA

Tool Technology, Inc., Danvers, MA

Tool Gauge & Machine Works, Inc., Tacoma, WA

Tool Mate Corporation, Cincinnati, OH

Tool Specialties Company, Hazelwood, MO

Tool Specialty Company, Los Angeles, CA

Tool Steel Service of California, Inc., Los Angeles, CA

Tool Tech Corporation, San Jose, CA

Tool Tech, Inc., Springfield, OH

Toolcomp Tooling & Components, Co., Toledo, OH

Toolcraft Products, Inc., Dayton, OH

Toolcraft of Phoenix, Inc., Glendale, AZ

Toolex, Inc., Houston, TX

Tooling Molds West, Inc., Tempe, AZ

Tools, Inc., Sussex, WI

Tools Renewal Company, Birmingham, AL

Top Tool Company, Minneapolis, MN

Top Tool & Die, Inc., Cleveland, OH

Toth Technologies, Pennsauken, NJ

Toth Industries, Inc., Toledo, OH

Tower Tool & Engineering, Inc., Machesney Park, IL

Trace-A-Matic Corporation, Brookfield, WI

Tracer Tool & Die Company Inc., Grand Rapids, MI

Trademark Die & Engineering, Belmont, MI

Tram Tek Inc., Phoenix, AZ

Tran Engineering, Garden Grove, CA

Trans-World Electric Inc., Port Arthur, TX

Transmatic Manufacturing, Tempe, AZ

Treblig, Inc., Greenville, SC

Trec Industries, Inc., Brooklyn Heights, OH

Tree City Mold & Machine Co., Inc., Kent, OH

Treffers Precision, Inc., Phoenix, AZ

Tresco Tool, Inc., Guys Mills, PA

Tri-M-Mold, Inc., Stevensville, MI

Tri Craft, Inc., Middleberg Heigh, OH

Tri J Machine Company, Inc., Gardena, CA

Tri-City Machine Products, Inc., Peoria, IL

Tri-City Tool & Die, Inc., Bay City, MI

Triad Plastic Technologies, Reno, NV

Triangle Tool Company, Erie, PA

Triangle Mold & Machine Co. Inc., Hartville, OH

Tribond Industries, Inc., Phoenix, AZ

Tricon Machine & Tool, Inc., Rochester, NY

Tricore Mold & Die, Machesney Park, IL

Tridecs Corporation, Hayward, CA

Trident Precision Manufacturing, Webster, NY

Trimac Manufacturing, Inc., Santa Clara, CA

Trimble Navigation Ltd. Engineering & Construction Division, Huber Heights, OH

Trimline Tool, Inc., Grandville, MI

Trinity Tools, Inc., North Tonawanda, NY

Trio Tool & Die, Inc., Hawthorne, CA

Triple-T Cutting Tools Inc., West Berlin, NJ

Triple Quality Tool & Die, Inc., Bell, CA

Triplett Machine, Inc., Phelps, NY

Triumph Precision, Inc., Phoenix, AZ

Trojan Mfg. Co. Inc., Piqua, OH

Trotwood Corporation, Trotwood, OH

Tru Form Manufacturing Corp., Rochester, NY

Tru Tool, Inc., Sturtevant, WI

Tru-Cut, Inc., Sebring, OH

Tru-Stop, Inc., Prescott Valley, AZ

True Cut EDM Inc., Garland, TX

True Position, Inc., Chatsworth, CA

True-Tech Corporation, Fremont, CA

Trueline Tool & Machine, Inc., Springfield, OH

Trust Technologies, Willoughby, OH

Trutron Corporation, Troy, MI

Tschida Engineering, Inc., Napa, CA

Tucker Engineering Inc., Peabody, MA

Tucker Machine Company, North Branford, CT

Turn-Tech, Inc., Pinehurst, TX

Turnkey Automation, Inc., Rockford, IL

Twin City Plating Company, Minneapolis, MN

Two-M Precision Co., Inc., Willoughby, OH

Tymar Precision Inc., Santa Clara, CA

U S Machine & Tool, Inc., Murfreesboro, TN

U M C, Inc., Hamel, MN

U C O Tool & Die, Inc., Union City, OH

U F E Incorporated, Stillwater, MN

UAB Manufacturing Co., Inc., Southampton, PA

Uddeholm, Santa Fe Springs, CA

Ugm, Inc., Santa Clara, CA

Ultima Nashua Industrial Corp., Nashua, NH

Ultra-Tech, Inc., Kansas City, KS

Ultra Tool Company, Grantsburg, WI

Ultra Tool & Manufacturing, Inc., Menomonee Falls, WI

Ultra Precision, Inc., Freeport, PA

Ultra Stamping & Assembly, Inc., Rockford, IL

Ultramation, Inc., Waco, TX

Ultron, Long Beach, CA

Uneco Manufacturing, Inc., Chicopee, MA

Unique Tool & Manufacturing, Randleman, NC

Unique Machine Company, Montgomeryville, PA

Unitech, Inc., Kansas City, MO

United States Fittings, Inc., Warrensville Hei, OH

United Tool & Engineering Co., South Beloit, IL

United Tool & Engineering, Inc., Mishawaka, IN

United Machine Co., Inc., Wichita, KS

United Centerless Grinding, East Hartford, CT

Universal Tools & Manufacturing Co., Springfield, NJ

Universal Precision Products Inc., Akron, OH

Universal Custom Process, Inc., Streetsboro, OH

Universal Brixius, Milwaukee, WI

Upland Fab, Inc., Ontario, CA

USAeroteam, Dayton, OH

USBX, Inc., Santa Monica, CA

UT Technologies, Inc., Los Angeles, CA

V R C, Inc., Berea, OH

V & S Die & Mold, Inc., Lakewood, OH

V I Mfg., Webster, NY

V Ash Machine Company, Cleveland, OH

V A Machine & Tools, Inc., Broussard, LA

V & M Tool Company, Inc., Perkasie, PA

V.A.W. of America, Inc., Phoenix, AZ

Val-Tech Mfg., Tempe, AZ

Valley Tool & Mfg., Inc., Orange, CT

Valley Tool Room, Inc., Phoenix, AZ

Valley Tool & Die, Inc., North Royalton, OH

Valley Machine Works, Inc., Phoenix, AZ

Valv-Trol Company, Stow, OH

Van-Am Tool & Engineering, Inc., St. Joseph, MO

Van Reenen Tool & Die Inc., Rochester, NY

Van Engineering, R Vandewalle, Inc., Cincinnati, OH

Van Os Machine Works, Inc., St. Louis, MO

Vanderveer Industrial Plastics, Inc., Placentia, CA

Vanpro, Inc., Cambridge, MN

Varco Systems, Orange, CA

Vaughn Manufacturing Company, Inc., Nashville, TN

Vektek, Inc., Emporia, KS

Venango Machine Products, Inc., Reno, PA

Ver-Sa-Til Associates, Inc., Chanhassen, MN

Versacut Ind. Inc., Morenci, MI

VersaTool & Die Machining and Engineering Inc., Beloit, WI

Vi-Tec Manufacturing Inc., Livermore, CA

Vico Louisville, Louisville, KY

Viking Tool & Engineering, Whitehall, MI

Viking Tool & Gage, Inc., Conneaut Lake, PA

Virtual Fund, Inc., Eden Prairie, MN

VirtualRFQ.cc, Auburn, WA

Vistek Precision Machine Company, Ivyland, PA

Vitron Manufacturing, Inc., Phoenix, AZ

Vitullo & Associates, Inc., Warren, MI

Vobeda Machine & Tool Company, Racine, WI

Vulcan Tool Corporation, Dayton, OH

W + D Machinery Company, Inc., Overland Park, KS

W & H Stampings & Fineblanking, Inc., Hauppauge, NY

W D & J Machine & Engineering Inc., Fullerton, CA

W E C Technologies Corporation, Amityville, NY

W G Strohwig Tool & Die, Inc., Richfield, WI

W W G, Inc., Indianapolis, IN

W. C. Kirby & Son, Inc., Noblesville, IN

W.A.C. Consulting/Coss Systems Inc., Northboro, MA

WADKO Precision, Inc., Houston, TX

Wagner Engraving Co., Kirkwood, MO

Wagner Engineering, Inc., Gilbert, AZ

Waiteco Machine, Acton, MA

Wajo Tool and Die, Inc., East Hampstead, NH

Walker Tool & Machine Company, Perrysburg, OH

Walker Corporation, Ontario, CA

Wallner Tooling/Expac, Inc., Rancho Cucamonga, CA

Waltco Engineering, Inc., Gardena, CA

Walter Waukesha, Inc., Waukesha, WI

Walter Tool & Mfg. Inc., Elgin, IL

Walz & Krenzer, Inc., Oxford, CT

Warmelin Precision Products, Hawthorne, CA

Waukesha Tool & Stamping Inc., Sussex, WI

Wayne Manufacturing, Inc., Boulder, CO

Webco Machine Products, Inc., Valley View, OH

Weco Metal Products, Ontario, NY

Wejco Instruments Inc., Houston, TX

Wemco Precision Tool, Inc., Meadville, PA

Wentworth Company, Glastonbury, CT

Werkema Machine Company, Inc., Grand Rapids, MI

Wes Products, Madison Heights, MI

West Valley Precision Inc., San Jose, CA

West Valley Milling, Inc., Chatsworth, CA

West Tool & Manufacturing, Inc., Cleveland, OH

West Pharmaceutical Services, Erie, PA

Western Tap Manufacturing Co., Inc., Buena Park, CA

Western Air Products, Tucson, AZ

Western Mass. MechTech, Inc., Ware, MA

Westfield Tool & Die, Inc., Westfield, MA

Westfield Manufacturing Corp., Westfield, IN

Westlake Tool & Die Mfg., Avon, OH

Westool Corporation, Temperance, MI

Westtool Inc., Phoenix, AZ

WGI Inc., Southwick, MA

Whatever Manufacturing, Santa Ana, CA

White Machine, Inc., North Royalton, OH

Whitehead Tool & Design, Inc., Guys Mills, PA

Wiegel Tool Works, Inc., Wood Dale, IL

Wiesen EDM, Inc., Belding, MI

Wightman Engineering Services, Inc., Santa Clara, CA

Wilco Die Tool Machine Company, Maryland Heights, MO

Wilkinson Mfg., Inc., Santa Clara, CA

Willer Tool Corporation, Jackson, WI

William Sopko & Sons Co., Inc., Cleveland, OH

Williams Machine, Inc., Lake Elsinore, CA

Williams Engineering & Manufacturing, Inc., Chatsworth, CA

Williams Tooling Inc., Dorr, MI

Windsor Tool & Die, Inc., Cleveland, OH

Wintech Industries Inc., Tempe, AZ

Winter's Grinding Service, Menomonee Falls, WI

Wire Tech E D M, Inc., Los Alamitos, CA

Wire Cut Company, Inc., Buena Park, CA

Wirecut Technologies Inc., Indianapolis, IN

WireCut E D M, Inc., Dallas, TX

Wiretec, Inc., Delmont, PA

Wisconsin Engraving Company/, Unitex, New Berlin, WI

Wisconsin Mold Builders, LLC, Waukesha, WI

Wise Machine Co., Inc., Butler, PA

Wolverine Tool Company, St. Clair Shores, MI

Wolverine Bronze Company, Roseville, MI

Wolverine Tool & Engineering, Belmont, MI

Woodruff Corporation, Torrance, CA

Wright-K Technology, Inc., Saginaw, MI

Wright Brothers Welding & Sheet Metal, Inc., Hollister, CA

Wright Industries, Inc., Gilbert, AZ

WSI Industries, Inc., Wayzata, MN

X-L Machine Company, Inc., Three Rivers, MI

XLI Corporation, Rochester, NY

Yarde Metals, Inc., Bristol, CT

Yates Tool, Inc., Medina, OH

Yoder Die Casting Corporation, Dayton, OH

Youngberg Industries, Inc., Belvidere, IL

Youngers and Sons Manufacturing Company, Inc., Viola, KS

Youngstown Plastic Tooling & Machinery, Inc., Youngstown, OH

Z & Z Machine Products Inc., Racine, WI

Z M D Mold & Die Inc., Mentor, OH

Zip Tool & Die Co., Inc., Cleveland, OH

Zip Products Inc., Rochester, NY

Zircon Precision Products, Inc., Tempe, AZ

Zuelzke Tool & Engineering, Milwaukee, WI

[FR Doc. 02-6346 Filed 3-15-02; 8:45 am]

BILLING CODE 3510-DR-P